DEPARTMENT OF COMMERCE

Bureau of the Census

[Docket Number 120308168-2158-01]

Qualifying Urban Areas for the 2010 Census

AGENCY: Bureau of the Census, Department of Commerce.

ACTION: Notice.

SUMMARY: The Bureau of the Census (Census Bureau) delineates urban areas after each decennial census for the purpose of tabulating and presenting data for the urban and rural population and housing within the United States, Puerto Rico, and the Island Areas.¹ The Census Bureau delineates urbanized areas ² and urban clusters ³ primarily on the basis of residential population density measured at the census tract and census block levels of geography, but also based on additional criteria that account for patterns of non-residential development as outlined in the urban area criteria published in the Federal Register on August 24, 2011 (76 FR 53030).⁴ This Notice provides the list of urbanized areas and urban clusters that qualified based on results of the 2010 Census of Population and Housing for the United States, Puerto Rico, and the Island Areas, and comprise the urban population, housing, and territory in these areas; “rural” encompasses any population, housing, and territory not included in any urban area. Publication of this Notice constitutes the Census Bureau's official announcement of the list of qualifying urbanized areas and urban clusters for reference by all interested parties.

¹ The Island Areas are American Samoa, Guam, the Commonwealth of the Northern Mariana Islands, and the U.S. Virgin Islands.

² An urbanized area consists of densely settled territory that contains 50,000 or more people.

³ An urban cluster consists of densely settled territory that contains at least 2,500 people, but fewer than 50,000 people.

⁴ An urbanized area delineated as a result of a special census conducted by the Census Bureau during this decade (an intercensal urbanized area), at the request and expense of local governments, will be qualified using these criteria and the population counts reported in that special census.

DATES: Effective Date: This Notice is effective upon publication.

FOR FURTHER INFORMATION CONTACT: Geographic Standards and Criteria Branch, Geography Division, U.S. Census Bureau, via email at geo.gscb.list@census.gov or telephone at 301-763-3056.

SUPPLEMENTARY INFORMATION: The Census Bureau identifies and tabulates data for the urban and rural populations and their associated areas solely for the presentation and comparison of statistical data. The Census Bureau does not take into account or attempt to anticipate any nonstatistical uses that may be made of these areas or their associated data, nor does it attempt to meet the requirements of such nonstatistical program uses. Nonetheless, the Census Bureau recognizes that some federal and state agencies are required by law to use Census Bureau-defined urban and rural classifications for allocating program funds, setting program standards, and implementing aspects of their programs. The agencies that make such nonstatistical uses of the areas and data should be aware that the changes to the urban and rural criteria for the 2010 Census might affect the implementation of their programs.

If a federal, state, local, tribal agency, or any organization voluntarily uses these urban and rural criteria in a nonstatistical program, it is that agency's responsibility to ensure that the criteria are appropriate for such use. In considering the appropriateness of such nonstatistical program uses, the Census Bureau urges each agency to consider permitting appropriate modifications of the results of implementing the urban and rural criteria specifically for the purposes of its program. When a program permits such modifications, the Census Bureau urges each agency to use descriptive terminology that clearly identifies the different criteria being applied to avoid confusion with the Census Bureau's official urban and rural classifications.

Executive Order 12866

This Notice has been determined to be not significant for purposes of Executive Order 12866.

Paperwork Reduction Act

This Notice does not represent a collection of information subject to the requirements of the Paperwork Reduction Act, Title 44, U.S.C., Chapter 35.

Urbanized Areas and Urban Clusters

This section of the Notice provides lists of the 2010 Census urbanized areas and urban clusters.

As a result of the 2010 Census, there are 486 urbanized areas in the United States, 11 urbanized areas in Puerto Rico, and no urbanized areas in the Island Areas, for a total of 497 urbanized areas. This total of 497 urbanized areas in 2010 includes 36 new urbanized areas since 2000 and the loss of four areas (three in the United States and one in the Commonwealth of the Northern Mariana Islands) that changed from urbanized areas in 2000 to urban clusters in 2010, for a net increase of 32 urbanized areas from the 465 defined from the Census 2000 results.

Of the 36 new urbanized areas in 2010, one was created when it no longer connected to a larger urbanized area of which it was a part in 2000, 12 were created from the connection of two or more urban clusters from 2000, and 23 were created from the growth of a single urban cluster from 2000.

As a result of the 2010 Census, a total of 3,104 urban clusters are in the United States, Puerto Rico, and the Island Areas.

A. List of Census 2010 Urbanized Areas in the United States, Puerto Rico, and the Island Areas

An alphabetical list of all qualifying urbanized areas follows. The population counts relate to data reported for the 2010 Census. New urbanized areas are indicated with an asterisk (*) next to the area's title.

Urbanized area | Population
Aberdeen—Bel Air South—Bel Air North, MD | 213,751
Abilene, TX | 110,421
Aguadilla—Isabela—San Sebastián, PR | 306,196
Akron, OH | 569,499
Albany, GA | 95,779
Albany, OR* | 56,997
Albany—Schenectady, NY | 594,962
Albuquerque, NM | 741,318
Alexandria, LA | 82,804
Allentown, PA—NJ | 664,651
Alton, IL—MO | 83,890
Altoona, PA | 79,930
Amarillo, TX | 196,651
Ames, IA | 60,438
Anchorage, AK | 251,243
Anderson, IN | 88,133
Anderson, SC | 75,702
Ann Arbor, MI | 306,022
Anniston—Oxford, AL | 79,796
Antioch, CA | 277,634
Appleton, WI | 216,154
Arecibo, PR | 139,171
Arroyo Grande—Grover Beach, CA* | 52,000
Asheville, NC | 280,648
Athens-Clarke County, GA | 128,754
Atlanta, GA | 4,515,419
Atlantic City, NJ | 248,402
Auburn, AL | 74,741
Augusta-Richmond County, GA—SC | 386,787
Austin, TX | 1,362,416
Avondale—Goodyear, AZ | 197,041
Bakersfield, CA | 523,994
Baltimore, MD | 2,203,663
Bangor, ME | 61,210
Barnstable Town, MA | 246,695
Baton Rouge, LA | 594,309
Battle Creek, MI | 78,393
Bay City, MI | 70,585
Beaumont, TX | 147,922
Beckley, WV* | 64,022
Bellingham, WA | 114,473
Beloit, WI—IL | 63,835
Bend, OR | 83,794
Benton Harbor—St. Joseph—Fair Plain, MI | 61,022
Billings, MT | 114,773
Binghamton, NY—PA | 158,084
Birmingham, AL | 749,495
Bismarck, ND | 81,955
Blacksburg, VA | 88,542
Bloomington, IN | 108,657
Bloomington—Normal, IL | 132,600
Bloomsburg—Berwick, PA* | 53,618
Boise City, ID | 349,684
Bonita Springs, FL | 310,298
Boston, MA—NH—RI | 4,181,019
Boulder, CO | 114,591
Bowling Green, KY | 78,306
Bremerton, WA | 198,979
Bridgeport—Stamford, CT—NY | 923,311
Bristol—Bristol, TN—VA | 69,501
Brownsville, TX | 217,585
Brunswick, GA | 51,024
Buffalo, NY | 935,906
Burlington, NC | 119,911
Burlington, VT | 108,740
Camarillo, CA | 71,772
Canton, OH | 279,245
Cape Coral, FL | 530,290
Cape Girardeau, MO—IL* | 52,900
Carbondale, IL* | 67,821
Carson City, NV | 58,079
Cartersville, GA* | 52,477
Casa Grande, AZ* | 51,331
Casper, WY | 64,548
Cedar Rapids, IA | 177,844
Chambersburg, PA* | 50,887
Champaign, IL | 145,361
Charleston, WV | 153,199
Charleston—North Charleston, SC | 548,404
Charlotte, NC—SC | 1,249,442
Charlottesville, VA | 92,359
Chattanooga, TN—GA | 381,112
Cheyenne, WY | 73,588
Chicago, IL—IN | 8,608,208
Chico, CA | 98,176
Cincinnati, OH—KY—IN | 1,624,827
Clarksville, TN—KY | 158,655
Cleveland, OH | 1,780,673
Cleveland, TN | 66,777
Coeur d'Alene, ID | 98,378
College Station—Bryan, TX | 171,345
Colorado Springs, CO | 559,409
Columbia, MO | 124,748
Columbia, SC | 549,777
Columbus, GA—AL | 253,602
Columbus, IN | 54,933
Columbus, OH | 1,368,035
Concord, CA | 615,968
Concord, NC | 214,881
Conroe—The Woodlands, TX | 239,938
Conway, AR* | 65,277
Corpus Christi, TX | 320,069
Corvallis, OR | 62,433
Cumberland, MD—WV—PA | 51,899
Dallas—Fort Worth—Arlington, TX | 5,121,892
Dalton, GA | 85,239
Danbury, CT—NY | 168,136
Danville, IL—IN | 50,996
Daphne—Fairhope, AL* | 57,383
Davenport, IA—IL | 280,051
Davis, CA | 72,794
Dayton, OH | 724,091
Decatur, AL | 70,436
Decatur, IL | 93,863
DeKalb, IL | 68,545
Delano, CA* | 54,372
Deltona, FL | 182,169
Denton—Lewisville, TX | 366,174
Denver—Aurora, CO | 2,374,203
Des Moines, IA | 450,070
Detroit, MI | 3,734,090
Dothan, AL | 68,781
Dover, DE | 110,769
Dover—Rochester, NH—ME | 88,087
Dubuque, IA—IL | 67,818
Duluth, MN—WI | 120,378
Durham, NC | 347,602
East Stroudsburg, PA—NJ* | 54,316
Eau Claire, WI | 102,852
El Centro—Calexico, CA | 107,672
El Paso de Robles (Paso Robles)—Atascadero, CA | 65,088
El Paso, TX—NM | 803,086
Elizabethtown—Radcliff, KY | 73,467
Elkhart, IN—MI | 143,592
Elmira, NY | 67,983
Erie, PA | 196,611
Eugene, OR | 247,421
Evansville, IN—KY | 229,351
Fairbanks, AK | 64,513
Fairfield, CA | 133,683
Fajardo, PR | 85,225
Fargo, ND—MN | 176,676
Farmington, NM | 53,049
Fayetteville, NC | 310,282
Fayetteville—Springdale—Rogers, AR—MO | 295,083
Flagstaff, AZ | 71,957
Flint, MI | 356,218
Florence, AL | 77,074
Florence, SC | 89,557
Florida—Imbéry—Barceloneta, PR | 71,747
Fond du Lac, WI | 54,901
Fort Collins, CO | 264,465
Fort Smith, AR—OK | 122,947
Fort Walton Beach—Navarre—Wright, FL | 191,917
Fort Wayne, IN | 313,492
Frederick, MD | 141,576
Fredericksburg, VA | 141,238
Fresno, CA | 654,628
Gadsden, AL | 64,172
Gainesville, FL | 187,781
Gainesville, GA | 130,846
Gastonia, NC—SC | 169,495
Gilroy—Morgan Hill, CA | 98,413
Glens Falls, NY | 65,443
Goldsboro, NC | 61,054
Grand Forks, ND—MN | 61,270
Grand Island, NE* | 50,440
Grand Junction, CO | 128,124
Grand Rapids, MI | 569,935
Grants Pass, OR* | 50,520
Great Falls, MT | 65,207
Greeley, CO | 117,825
Green Bay, WI | 206,520
Greensboro, NC | 311,810
Greenville, NC | 117,798
Greenville, SC | 400,492
Guayama, PR | 80,155
Gulfport, MS | 208,948
Hagerstown, MD—WV—PA | 182,696
Hammond, LA* | 67,629
Hanford, CA | 87,941
Hanover, PA* | 66,301
Harlingen, TX | 135,663
Harrisburg, PA | 444,474
Harrisonburg, VA | 66,784
Hartford, CT | 924,859
Hattiesburg, MS | 80,358
Hazleton, PA | 56,827
Hemet, CA | 163,379
Hickory, NC | 212,195
High Point, NC | 166,485
Hilton Head Island, SC* | 68,998
Hinesville, GA | 51,456
Holland, MI | 99,941
Homosassa Springs—Beverly Hills—Citrus Springs, FL* | 80,962
Hot Springs, AR | 55,121
Houma, LA | 144,875
Houston, TX | 4,944,332
Huntington, WV—KY—OH | 202,637
Huntsville, AL | 286,692
Idaho Falls, ID | 90,733
Indianapolis, IN | 1,487,483
Indio—Cathedral City, CA | 345,580
Iowa City, IA | 106,621
Ithaca, NY | 53,661
Jackson, MI | 90,057
Jackson, MS | 351,478
Jackson, TN | 71,880
Jacksonville, FL | 1,065,219
Jacksonville, NC | 105,419
Janesville, WI | 69,658
Jefferson City, MO | 58,533
Johnson City, TN | 120,415
Johnstown, PA | 69,014
Jonesboro, AR | 65,419
Joplin, MO | 82,775
Juana Díaz, PR | 80,928
Kahului, HI* | 55,934
Kailua (Honolulu County)—Kaneohe, HI | 113,682
Kalamazoo, MI | 209,703
Kankakee, IL | 81,926
Kansas City, MO—KS | 1,519,417
Kennewick—Pasco, WA | 210,975
Kenosha, WI—IL | 124,064
Killeen, TX | 217,630
Kingsport, TN—VA | 106,571
Kingston, NY | 57,442
Kissimmee, FL | 314,071
Knoxville, TN | 558,696
Kokomo, IN | 62,182
La Crosse, WI—MN | 100,868
Lady Lake—The Villages, FL | 112,991
Lafayette, IN | 147,725
Lafayette, LA | 252,720
Lafayette—Louisville—Erie, CO | 79,407
Lake Charles, LA | 143,440
Lake Havasu City, AZ* | 53,427
Lake Jackson—Angleton, TX | 74,830
Lakeland, FL | 262,596
Lancaster, PA | 402,004
Lancaster—Palmdale, CA | 341,219
Lansing, MI | 313,532
Laredo, TX | 235,730
Las Cruces, NM | 128,600
Las Vegas—Henderson, NV | 1,886,011
Lawrence, KS | 88,053
Lawton, OK | 94,457
Lebanon, PA | 77,086
Lee's Summit, MO | 85,081
Leesburg—Eustis—Tavares, FL | 131,337
Leominster—Fitchburg, MA | 116,960
Lewiston, ID—WA | 51,924
Lewiston, ME | 59,397
Lexington Park—California—Chesapeake Ranch Estates, MD* | 58,875
Lexington-Fayette, KY | 290,263
Lima, OH | 72,852
Lincoln, NE | 258,719
Little Rock, AR | 431,388
Livermore, CA | 81,624
Lodi, CA | 68,738
Logan, UT | 94,983
Lompoc, CA | 51,509
Longmont, CO | 90,897
Longview, TX | 98,884
Longview, WA—OR | 63,952
Lorain—Elyria, OH | 180,956
Los Angeles—Long Beach—Anaheim, CA | 12,150,996
Los Lunas, NM* | 63,758
Louisville/Jefferson County, KY—IN | 972,546
Lubbock, TX | 237,356
Lynchburg, VA | 116,636
Macon, GA | 137,570
Madera, CA | 78,413
Madison, WI | 401,661
Manchester, NH | 158,377
Mandeville—Covington, LA | 88,925
Manhattan, KS* | 54,622
Mankato, MN* | 57,584
Mansfield, OH | 75,250
Manteca, CA | 83,578
Marysville, WA | 145,140
Mauldin—Simpsonville, SC | 120,577
Mayagüez, PR | 109,572
McAllen, TX | 728,825
McKinney, TX | 170,030
Medford, OR | 154,081
Memphis, TN—MS—AR | 1,060,061
Merced, CA | 136,969
Miami, FL | 5,502,379
Michigan City—La Porte, IN—MI | 66,025
Middletown, NY | 58,381
Middletown, OH | 97,503
Midland, MI* | 59,014
Midland, TX | 117,807
Milwaukee, WI | 1,376,476
Minneapolis—St. Paul, MN—WI | 2,650,890
Mission Viejo—Lake Forest—San Clemente, CA | 583,681
Missoula, MT | 82,157
Mobile, AL | 326,183
Modesto, CA | 358,172
Monessen—California, PA | 66,086
Monroe, LA | 116,533
Monroe, MI | 51,240
Montgomery, AL | 263,907
Morgantown, WV | 70,350
Morristown, TN | 59,036
Mount Vernon, WA | 62,966
Muncie, IN | 90,580
Murfreesboro, TN | 133,228
Murrieta—Temecula—Menifee, CA | 441,546
Muskegon, MI | 161,280
Myrtle Beach—Socastee, SC—NC | 215,304
Nampa, ID | 151,499
Napa, CA | 83,913
Nashua, NH—MA | 226,400
Nashville-Davidson, TN | 969,587
New Bedford, MA | 149,443
New Bern, NC* | 50,503
New Haven, CT | 562,839
New Orleans, LA | 899,703
New York—Newark, NY—NJ—CT | 18,351,295
Newark, OH | 76,068
Norman, OK | 103,898
North Port—Port Charlotte, FL | 169,541
Norwich—New London, CT—RI | 209,190
Ocala, FL | 156,909
Odessa, TX | 126,405
Ogden—Layton, UT | 546,026
Oklahoma City, OK | 861,505
Olympia—Lacey, WA | 176,617
Omaha, NE—IA | 725,008
Orlando, FL | 1,510,516
Oshkosh, WI | 74,495
Owensboro, KY | 70,543
Oxnard, CA | 367,260
Palm Bay—Melbourne, FL | 452,791
Palm Coast—Daytona Beach—Port Orange, FL | 349,064
Panama City, FL | 143,280
Parkersburg, WV—OH | 67,229
Pascagoula, MS | 50,428
Pensacola, FL—AL | 340,067
Peoria, IL | 266,921
Petaluma, CA | 64,078
Philadelphia, PA—NJ—DE—MD | 5,441,567
Phoenix—Mesa, AZ | 3,629,114
Pine Bluff, AR | 53,495
Pittsburgh, PA | 1,733,853
Pittsfield, MA | 59,124
Pocatello, ID | 69,809
Ponce, PR | 149,539
Port Arthur, TX | 153,150
Port Huron, MI | 87,106
Port St. Lucie, FL | 376,047
Porterville, CA | 70,272
Portland, ME | 203,914
Portland, OR—WA | 1,849,898
Portsmouth, NH—ME | 88,200
Pottstown, PA | 107,682
Poughkeepsie—Newburgh, NY—NJ | 423,566
Prescott Valley—Prescott, AZ | 84,744
Providence, RI—MA | 1,190,956
Provo—Orem, UT | 482,819
Pueblo, CO | 136,550
Racine, WI | 133,700
Raleigh, NC | 884,891
Rapid City, SD | 81,251
Reading, PA | 266,254
Redding, CA | 117,731
Reno, NV—CA | 392,141
Richmond, VA | 953,556
Riverside—San Bernardino, CA | 1,932,666
Roanoke, VA | 210,111
Rochester, MN | 107,677
Rochester, NY | 720,572
Rock Hill, SC | 104,996
Rockford, IL | 296,863
Rocky Mount, NC | 68,243
Rome, GA | 60,851
Round Lake Beach—McHenry—Grayslake, IL—WI | 290,373
Sacramento, CA | 1,723,634
Saginaw, MI | 126,265
Salem, OR | 236,632
Salinas, CA | 184,809
Salisbury, MD—DE | 98,081
Salt Lake City—West Valley City, UT | 1,021,243
San Angelo, TX | 92,984
San Antonio, TX | 1,758,210
San Diego, CA | 2,956,746
San Francisco—Oakland, CA | 3,281,212
San Germán—Cabo Rojo—Sabana Grande, PR | 118,199
San Jose, CA | 1,664,496
San Juan, PR | 2,148,346
San Luis Obispo, CA | 59,219
San Marcos, TX* | 52,826
Santa Barbara, CA | 195,861
Santa Clarita, CA | 258,653
Santa Cruz, CA | 163,703
Santa Fe, NM | 89,284
Santa Maria, CA | 130,447
Santa Rosa, CA | 308,231
Sarasota—Bradenton, FL | 643,260
Saratoga Springs, NY | 64,100
Savannah, GA | 260,677
Scranton, PA | 381,502
Seaside—Monterey, CA | 114,237
Seattle, WA | 3,059,393
Sebastian—Vero Beach South—Florida Ridge, FL | 149,422
Sebring—Avon Park, FL* | 61,625
Sheboygan, WI | 71,313
Sherman, TX | 61,900
Shreveport, LA | 298,317
Sierra Vista, AZ* | 52,745
Simi Valley, CA | 125,206
Sioux City, IA—NE—SD | 106,494
Sioux Falls, SD | 156,777
Slidell, LA | 91,151
South Bend, IN—MI | 278,165
South Lyon—Howell, MI | 119,509
Spartanburg, SC | 180,786
Spokane, WA | 387,847
Spring Hill, FL | 148,220
Springfield, IL | 161,316
Springfield, MA—CT | 621,300
Springfield, MO | 273,724
Springfield, OH | 85,256
St. Augustine, FL | 69,173
St. Cloud, MN | 110,621
St. George, UT | 98,370
St. Joseph, MO—KS | 81,176
St. Louis, MO—IL | 2,150,706
State College, PA | 87,454
Staunton—Waynesboro, VA* | 56,611
Stockton, CA | 370,583
Sumter, SC | 73,107
Syracuse, NY | 412,317
Tallahassee, FL | 240,223
Tampa—St. Petersburg, FL | 2,441,770
Temple, TX | 90,390
Terre Haute, IN | 92,742
Texarkana—Texarkana, TX—AR | 78,162
Texas City, TX | 106,383
Thousand Oaks, CA | 214,811
Titusville, FL | 54,386
Toledo, OH—MI | 507,643
Topeka, KS | 150,003
Tracy, CA | 87,569
Trenton, NJ | 296,668
Tucson, AZ | 843,168
Tulsa, OK | 655,479
Turlock, CA | 99,904
Tuscaloosa, AL | 139,114
Twin Rivers—Hightstown, NJ | 64,037
Tyler, TX | 130,247
Uniontown—Connellsville, PA | 51,370
Urban Honolulu, HI | 802,459
Utica, NY | 117,328
Vacaville, CA | 93,141
Valdosta, GA | 77,085
Vallejo, CA | 165,074
Victoria, TX | 63,683
Victorville—Hesperia, CA | 328,454
Villas, NJ | 51,291
Vineland, NJ | 95,259
Virginia Beach, VA | 1,439,666
Visalia, CA | 219,454
Waco, TX | 172,378
Waldorf, MD | 109,919
Walla Walla, WA—OR* | 55,805
Warner Robins, GA | 133,109
Washington, DC—VA—MD | 4,586,770
Waterbury, CT | 194,535
Waterloo, IA | 113,418
Watertown, NY* | 57,840
Watsonville, CA | 73,534
Wausau, WI | 74,632
Weirton—Steubenville, WV—OH—PA | 70,889
Wenatchee, WA | 67,227
West Bend, WI* | 68,444
Westminster—Eldersburg, MD | 72,714
Wheeling, WV—OH | 81,249
Wichita Falls, TX | 99,437
Wichita, KS | 472,870
Williamsburg, VA* | 75,689
Williamsport, PA | 56,142
Wilmington, NC | 219,957
Winchester, VA | 69,449
Winston-Salem, NC | 391,024
Winter Haven, FL | 201,289
Woodland, CA* | 55,513
Worcester, MA—CT | 486,514
Yakima, WA | 129,534
Yauco, PR | 90,899
York, PA | 232,045
Youngstown, OH—PA | 387,550
Yuba City, CA | 116,719
Yuma, AZ—CA | 135,267
Zephyrhills, FL | 66,609

B. List of Urban Clusters in the United States, Puerto Rico, and the Island Areas

An alphabetical list of all qualifying urban clusters follows. The population counts relate to data reported for the 2010 Census.

Urban cluster | Population
Abbeville, LA | 19,824
Abbeville, SC | 5,243
Abbotsford, WI | 3,966
Aberdeen, MS | 4,666
Aberdeen, SD | 25,977
Aberdeen, WA | 29,856
Abernathy, TX | 2,785
Abilene, KS | 7,054
Abingdon, IL | 3,389
Ada, OH | 5,945
Ada, OK | 17,400
Adams, NY | 2,542
Adel, GA | 6,986
Adel, IA | 3,170
Adjuntas, PR | 11,122
Adrian, MI | 44,823
Agat, GU | 10,093
Ahoskie, NC | 4,951
Air Force Academy, CO | 5,512
Ajo, AZ | 3,076
Akron, NY | 2,982
Alachua, FL | 4,114
Alamogordo, NM | 31,862
Alamosa, CO | 9,751
Albany, MN | 2,564
Albemarle, NC | 16,823
Albert Lea, MN | 17,868
Albertville, AL | 36,815
Albia, IA | 3,573
Albion, MI | 9,219
Albion, NY | 8,171
Albion, PA | 4,574
Alderson, WV | 2,632
Aledo, IL | 3,655
Aledo, TX | 4,854
Alexander City, AL | 9,400
Alexandria, MN | 16,983
Alfred, NY | 4,322
Algoma, WI | 3,070
Algona, IA | 5,340
Alice, TX | 20,974
Allegan, MI | 6,322
Allendale, SC | 3,307
Alliance, NE | 8,486
Alliance, OH | 32,533
Alma, GA | 3,408
Alma—St. Louis, MI | 16,924
Almont, MI | 2,719
Alpena, MI | 14,258
Alpine, TX | 6,013
Altavista, VA | 4,663
Alturas, CA | 2,910
Altus, OK | 19,900
Alva, OK | 5,620
Alvarado, TX | 4,133
American Falls, ID | 4,488
Americus, GA | 19,106
Amery, WI | 2,832
Amite City, LA | 6,161
Amory, MS | 6,566
Amouli, AS | 4,515
Amsterdam, NY | 22,262
Anaconda-Deer Lodge County, MT | 6,170
Anacortes, WA | 16,712
Anadarko, OK | 5,929
Anamosa, IA | 5,497
Anchorage Northeast, AK | 28,568
Andalusia, AL | 6,655
Andrews, SC | 3,903
Andrews, TX | 12,346
Angels, CA | 3,751
Angola, IN | 11,196
Anna, IL | 6,078
Anna, TX | 10,746
Annandale, MN | 3,262
Antigo, WI | 8,158
Apalachicola, FL | 3,691
Apple Valley, OH | 4,835
Arab, AL | 8,012
Arbuckle, CA | 2,652
Arcade, NY | 3,048
Arcadia, LA | 2,894
Arcadia, WI | 2,993
Arcadia—Southeast Arcadia, FL | 17,490
Arcata-McKinleyville, CA | 32,364
Archbold, OH | 4,760
Archer Lodge—Clayton, NC | 13,288
Arcola, IL | 2,874
Ardmore, OK | 20,888
Arizona City, AZ | 10,531
Arkadelphia, AR | 10,491
Arkansas City, KS | 13,026
Arlington, TN | 11,502
Artesia, NM | 12,764
Arvin, CA | 19,573
Ashburn, GA | 4,489
Ashdown, AR | 4,146
Asheboro, NC | 37,792
Ashland City, TN | 3,384
Ashland, MO | 3,527
Ashland, NE | 2,631
Ashland, OH | 20,226
Ashland, PA | 7,820
Ashland, WI | 7,293
Ashtabula, OH | 29,346
Ashville, OH | 6,222
Aspen, CO | 7,710
Astoria, OR | 14,115
Atchison, KS—MO | 11,166
Athens, AL | 24,956
Athens, OH | 28,286
Athens, TN | 15,985
Athens, TX | 12,169
Athol, MA | 12,834
Atlanta, TX | 5,732
Atlantic, IA | 6,471
Atmore, AL | 6,565
Atoka, TN | 18,885
Attica, IN | 5,193
Attica, NY | 6,828
Au Sable, MI | 6,384
Aubrey, TX | 4,139
Auburn, IL | 4,433
Auburn, IN | 21,712
Auburn, NE | 3,474
Auburn, NY | 32,274
Auburn—North Auburn, CA | 33,157
Augusta, KS | 9,350
Augusta, ME | 22,637
Aumsville, OR | 3,692
Aurora, MO | 8,365
Aurora, NE | 4,466
Austin, MN | 25,103
Ava, MO | 2,857
Avalon, CA | 3,652
Avenal, CA | 15,486
Avon, NY | 4,973
Avra Valley, AZ | 3,869
Aztec, NM | 8,456
Bad Axe, MI | 3,490
Bainbridge, GA | 12,118
Baker City, OR | 9,518
Bald Knob, AR | 2,517
Baldwin City, KS | 4,428
Baldwin, WI | 5,831
Ballinger, TX | 3,705
Baltimore, OH | 3,503
Bamberg, SC | 3,492
Bandon, OR | 3,119
Bar Harbor, ME | 2,575
Baraboo, WI | 13,759
Barbourville, KY | 6,300
Bardstown, KY | 18,702
Barnesville, GA | 7,167
Barnesville, OH | 4,351
Barnwell, SC | 3,949
Barre—Montpelier, VT | 21,675
Barron, WI | 3,292
Barrow, AK | 3,835
Barstow, CA | 28,973
Bartlesville, OK | 38,874
Bartlett, TX | 2,653
Basalt—El Jebel, CO | 8,531
Basehor, KS | 3,849
Bastrop, LA | 13,979
Bastrop, TX | 13,371
Batavia, NY | 17,834
Batesburg-Leesville, SC | 5,267
Batesville, AR | 11,513
Batesville, IN | 7,734
Batesville, MS | 7,309
Bath, NY | 7,124
Battle Mountain, NV | 3,520
Battlement Mesa, CO | 5,071
Baxley, GA | 5,208
Baxter Springs, KS | 5,089
Bay City, TX | 18,745
Bay Minette, AL | 7,486
Bayard, NM | 4,309
Bayfield, CO | 2,578
Bealeton, VA | 6,621
Beardstown, IL | 6,530
Beatrice, NE | 12,405
Beaufort—Port Royal, SC | 48,807
Beaver Dam, KY | 6,321
Beaver Dam, WI | 17,833
Beaver, UT | 2,882
Becker, MN | 3,898
Bedford, IN | 14,977
Bedford, NY | 2,679
Bedford, PA | 4,693
Bedford, VA | 6,829
Beebe, AR | 6,714
Beecher, IL | 4,148
Beeville, TX | 18,168
Belding, MI | 5,789
Belfair, WA | 3,331
Belfast, ME | 3,358
Belgrade, MT | 13,797
Belle Fourche, SD | 5,240
Belle Glade, FL | 24,870
Belle Plaine, MN | 6,174
Bellefontaine, OH | 13,235
Bellefonte, PA | 12,888
Bellevue, IA | 2,543
Bellevue, OH | 8,413
Bellows Falls, VT—NH | 5,713
Bells, TN | 4,758
Bellville, TX | 4,002
Beloit, KS | 3,295
Belterra, TX | 3,731
Belton, SC | 5,443
Belvidere, NJ—PA | 3,881
Belzoni, MS | 4,702
Bemidji, MN | 14,626
Bennettsville, SC | 13,006
Bennington, VT | 12,723
Benson, AZ | 4,036
Benson, MN | 3,191
Benson, NC | 3,107
Benton City, WA | 4,140
Benton, IL | 7,778
Benton, KY | 4,447
Benton, LA | 5,371
Berea, KY | 15,590
Berlin, NH | 11,159
Berlin, WI | 4,891
Berne, IN | 5,490
Berrien Springs, MI | 7,358
Berryville, AR | 4,800
Berryville, VA | 4,277
Bethany, MO | 2,652
Bethel, AK | 4,434
Bethel, OH | 3,239
Beulah, ND | 2,949
Bicknell, IN | 3,217
Big Bear City, CA | 15,873
Big Lake, TX | 2,919
Big Pine Key, FL | 7,540
Big Rapids, MI | 14,241
Big Spring, TX | 27,987
Big Stone Gap, VA | 8,240
Birch Bay, WA | 12,737
Bisbee, AZ | 5,541
Biscoe, NC | 2,821
Bishop, CA | 9,935
Bishop, TX | 3,116
Bishopville, SC | 5,391
Black River Falls, WI | 5,677
Blackfoot, ID | 15,352
Blackshear, GA | 3,873
Blackstone, VA | 3,232
Blackwell, OK | 6,916
Blair, NE | 7,844
Blairsville, PA | 7,060
Blakely, GA | 3,748
Blanchard, OK | 3,434
Blanchester, OH | 4,184
Blanding, UT | 3,264
Blissfield, MI | 3,303
Bloomer, WI | 3,348
Bloomfield, IN | 2,521
Bloomfield, NM | 9,892
Blountstown, FL | 4,751
Blue Earth, MN | 3,257
Bluefield, WV—VA | 44,092
Bluffton, IN | 9,952
Bluffton, OH | 4,215
Blythe, CA—AZ | 12,967
Blytheville, AR | 18,219
Boardman, OR | 3,362
Boerne, TX | 10,467
Bogalusa, LA | 12,213
Boiling Spring Lakes, NC | 4,397
Boiling Springs, NC | 4,549
Bolivar, MO | 9,693
Bolivar, OH | 3,717
Bolivar, TN | 5,394
Bonadelle Ranchos-Madera Ranchos, CA | 8,024
Bonham, TX | 9,995
Bonifay, FL | 4,230
Bonneauville, PA | 4,427
Bonners Ferry, ID | 2,613
Boone, IA | 12,793
Boone, NC | 22,763
Booneville, AR | 3,335
Booneville, MS | 6,050
Boonville, IN | 6,258
Boonville, MO | 9,229
Borger, TX | 13,574
Boscobel, WI | 3,261
Boulder City, NV | 13,866
Bowie, TX | 5,143
Bowling Green, MO | 5,356
Bowling Green, OH | 30,738
Box Elder, SD | 7,885
Boyne City, MI | 3,501
Bozeman, MT | 43,164
Brackettville, TX | 2,862
Bradford, PA—NY | 12,083
Brady, TX | 5,357
Braidwood—Coal City—Wilmington, IL | 22,685
Brainerd, MN | 19,812
Brandon, SD | 8,173
Branson, MO | 22,645
Brattleboro, VT—NH | 9,980
Brawley, CA | 25,032
Brazoria, TX | 3,908
Breaux Bridge, LA | 18,465
Breckenridge, CO | 7,179
Breckenridge, TX | 5,839
Breese, IL | 5,800
Bremen, GA | 6,516
Bremen, IN | 4,663
Brenham, TX | 15,682
Brent, AL | 5,525
Brevard, NC | 13,121
Brewton, AL | 6,866
Bridgeport, TX | 5,646
Bridgeton, NJ | 35,022
Bridgeville, DE | 3,343
Brillion, WI | 2,968
Brinkley, AR | 2,528
Bristow, OK | 4,110
Broadway, VA | 6,228
Brockport, NY | 20,255
Brockway, PA | 2,856
Brodhead, WI | 3,506
Broken Bow, NE | 3,537
Broken Bow, OK | 4,253
Brookfield, MO | 4,281
Brookhaven, MS | 10,635
Brookings, OR | 10,915
Brookings, SD | 22,482
Brooklyn, MI | 2,773
Brookshire, TX | 4,486
Brookville, PA | 4,542
Brownfield, TX | 9,530
Browning, MT | 4,624
Browns Mills—Fort Dix, NJ | 37,985
Brownstown, IN | 3,149
Brownsville, TN | 9,879
Brownwood, TX | 22,711
Brunswick, MD—VA | 8,495
Brunswick, ME | 29,159
Brush, CO | 5,816
Bryan, OH | 9,762
Buckeye, AZ | 19,424
Buckhannon, WV | 8,731
Buckhead (Bryan County), GA | 5,168
Buckner, MO | 3,034
Bucyrus, OH | 12,401
Buena Vista, CO | 4,483
Buena Vista, VA | 6,536
Buffalo, MN | 15,972
Buffalo, MO | 3,031
Buffalo, WY | 4,368
Buhl, ID | 4,138
Buies Creek, NC | 5,628
Bullhead City, AZ—NV | 48,656
Bunkie, LA | 4,090
Buras, LA | 3,767
Burgaw, NC | 3,456
Burgettstown, PA | 3,380
Burkburnett, TX | 10,002
Burley, ID | 15,977
Burlington, CO | 4,243
Burlington, IA—IL | 29,569
Burlington, KS | 2,503
Burlington, WI | 23,534
Burnet, TX | 5,428
Burney, CA | 3,171
Burns, OR | 4,131
Burnt Store Marina, FL | 3,061
Bushnell, FL | 3,500
Bushnell, IL | 3,045
Butler, IN | 2,651
Butler, MO | 3,875
Butler, PA | 40,352
Butner, NC | 16,975
Butte-Silver Bow, MT | 30,287
Byron, IL | 7,057
Byron, MN | 4,864
Cache, OK | 2,600
Cactus, TX | 3,292
Cadillac, MI | 11,690
Cadiz, KY | 2,960
Cadiz, OH | 2,521
Cairo, GA | 9,414
Cairo, IL | 2,833
Calais, ME | 2,504
Caldwell, OH | 5,488
Caldwell, TX | 4,012
Caledonia, MN | 2,749
Calhoun, GA | 31,493
California City, CA | 10,908
California, MO | 4,181
Calipatria, CA | 3,538
Calistoga, CA | 5,155
Camano North, WA | 2,529
Camano, WA | 6,157
Cambria, CA | 5,865
Cambridge City, IN | 3,805
Cambridge Springs, PA | 2,602
Cambridge, MD | 14,255
Cambridge, MN | 14,270
Cambridge, OH | 15,232
Cambridge, WI | 2,577
Camden, AR | 11,401
Camden, ME | 3,968
Camden, SC | 13,546
Camden, TN | 3,552
Camdenton, MO | 3,632
Cameron, MO | 9,782
Cameron, TX | 5,389
Camilla, GA | 6,939
Camp Verde, AZ | 5,305
Campbellsville, KY | 11,719
Canadian, TX | 2,781
Canby, OR | 17,119
Cannon Falls, MN | 3,931
Cañon City, CO | 27,139
Canton, IL | 14,818
Canton, MS | 15,321
Canton, NY | 6,489
Canton, SD | 2,679
Canton, TX | 3,563
Canyon Lake, TX | 5,277
Canyon, TX | 13,440
Captain Cook, HI | 4,175
Carbondale, CO | 7,159
Carey, OH | 3,575
Caribou, ME | 3,974
Carlinville, IL | 5,953
Carlisle, IA | 3,968
Carlsbad, NM | 29,839
Carlton, OR | 3,178
Carlyle, IL | 4,301
Carmel Valley Village, CA | 3,122
Carmi, IL | 5,568
Caro, MI | 5,113
Carrizo Springs, TX | 6,050
Carroll, IA | 9,984
Carrollton, GA | 42,872
Carrollton, KY | 5,165
Carrollton, MO | 3,296
Carrollton, OH | 3,498
Carthage, IL | 2,582
Carthage, MO | 15,496
Carthage, MS | 4,478
Carthage, TN | 3,282
Carthage, TX | 6,492
Caruthersville, MO | 5,786
Casey, IL | 2,834
Cashmere, WA | 4,725
Cassville, MO | 4,084
Castle Dale, UT | 2,893
Castle Rock, WA | 2,514
Castroville, TX | 4,040
Catskill, NY | 6,453
Cazenovia, NY | 3,114
Cedar City, UT | 33,200
Cedar Springs, MI | 3,579
Cedaredge, CO | 3,550
Cedartown, GA | 12,502
Cedarville, OH | 4,041
Celina, OH | 11,259
Center, TX | 5,234
Centerville, IA | 5,380
Central City, NE | 2,821
Central City—Greenville, KY | 9,943
Centralia, IL | 17,296
Centralia, MO | 3,813
Centralia, WA | 39,517
Centre, AL | 3,707
Centreville, MD | 4,285
Century, FL—AL | 3,321
Chadron, NE | 5,515
Chaffee, MO | 2,973
Chandler, OK | 2,704
Chanute, KS | 9,059
Chaparral, NM | 12,328
Chardon, OH | 8,028
Chariton, IA | 3,893
Charles City, IA | 7,706
Charles Town—Ranson, WV | 21,019
Charleston, IL | 21,810
Charleston, MO | 5,893
Charleston, MS | 2,930
Charlestown, IN | 6,921
Charlestown, NH | 2,815
Charlestown, RI | 2,942
Charlevoix, MI | 4,179
Charlotte Amalie—Tutu, VI | 50,916
Charlotte, MI | 12,682
Chase City, VA | 2,666
Chatfield, MN | 2,604
Chattahoochee, FL | 5,508
Cheboygan, MI | 4,517
Checotah, OK | 2,572
Chelan, WA | 5,704
Chelsea, MI | 5,329
Cheney, WA | 10,569
Cheraw, SC | 8,160
Cherokee Village, AR | 3,443
Cherokee, IA | 4,662
Cherryville, NC | 6,340
Chesapeake Beach, MD | 23,700
Chesnee, SC | 3,003
Chester, IL | 8,450
Chester, NY | 5,691
Chester, SC | 9,351
Chestertown, MD | 7,153
Chetek, WI | 2,830
Chickasha, OK | 15,739
Childress, TX | 4,707
Chillicothe, MO | 9,633
Chillicothe, OH | 32,263
Chilton, WI | 3,590
Chinle, AZ | 3,407
Chino Valley, AZ | 10,783
Chipley, FL | 3,846
Chisholm, MN | 4,622
Chittenango, NY | 5,083
Chowchilla, CA | 11,843
Christiansted, VI | 46,601
Christopher, IL | 3,610
Church Point, LA | 4,588
Churchville, NY | 3,134
Circleville, OH | 14,965
Cisco, TX | 3,658
Clanton, AL | 5,785
Clare, MI | 5,597
Claremont, NH | 9,598
Claremore, OK | 25,164
Clarinda, IA | 5,415
Clarion, IA | 2,639
Clarion, PA | 9,373
Clarksburg, WV | 43,988
Clarksdale, MS | 17,783
Clarksville, AR | 7,313
Clarksville, TX | 3,121
Claxton, GA | 4,259
Clay Center, KS | 4,307
Clayton, GA | 3,372
Cle Elum, WA | 3,539
Clear Lake, IA | 7,944
Clearfield, PA | 10,903
Clearlake Riviera, CA | 2,806
Clearlake, CA | 15,944
Clearwood, WA | 2,611
Cleburne, TX | 35,122
Cleveland, GA | 4,399
Cleveland, MS | 15,722
Cleveland, OK | 3,128
Cleveland, TX | 9,960
Clewiston, FL | 12,833
Clifton Forge, VA | 5,311
Clifton Springs, NY | 6,444
Clifton, AZ | 4,508
Clifton, TX | 3,421
Clinton, IA—IL | 32,332
Clinton, IL | 8,487
Clinton, IN | 6,425
Clinton, MO | 8,740
Clinton, NC | 9,538
Clinton, OK | 8,426
Clinton, SC | 11,176
Clintonville, WI | 4,481
Cloquet, MN | 12,936
Clover, SC | 6,513
Cloverdale, CA | 9,166
Clovis, NM | 41,570
Clyde, OH | 6,039
Clyde, TX | 3,768
Coalinga, CA | 12,702
Coamo, PR | 38,047
Cobleskill, NY | 5,618
Cochran, GA | 6,324
Coco—Salinas, PR | 22,102
Cody, WY | 9,338
Coeburn, VA | 3,179
Coffeyville, KS—OK | 10,909
Cokato, MN | 4,244
Colby, KS | 5,463
Colchester, CT | 10,098
Cold Spring, MN | 4,324
Cold Spring, NY | 3,276
Coldwater, MI | 16,876
Coldwater, OH | 4,473
Coleman, TX | 4,310
Colfax, CA | 3,144
Colfax, WA | 2,720
Collinsville, OK | 4,248
Colonial Beach, VA | 3,693
Colorado City, AZ—UT | 8,233
Colorado City, TX | 5,948
Columbia City, IN | 9,225
Columbia Falls, MT | 6,029
Columbia, KY | 4,579
Columbia, MS | 7,294
Columbia, TN | 34,965
Columbiana, AL | 2,642
Columbiana, OH | 8,101
Columbus AFB, MS | 3,140
Columbus, KS | 3,272
Columbus, MS | 31,174
Columbus, NE | 22,106
Columbus, TX | 4,176
Columbus, WI | 6,623
Colusa, CA | 6,791
Colville, WA | 4,966
Comanche, TX | 3,988
Comfort, TX | 2,653
Commerce, GA | 6,624
Commerce, TX | 7,717
Concord, NH | 42,611
Concordia, KS | 5,340
Conesus Lake, NY | 4,858
Conneaut, OH | 14,109
Connell, WA | 4,076
Connersville, IN | 15,347
Conrad, MT | 2,578
Constantine, MI | 4,074
Cookeville, TN | 44,207
Coolidge, AZ | 10,919
Coopersville, MI | 3,951
Coos Bay, OR | 31,386
Coquille, OR | 4,359
Corcoran, CA | 25,516
Cordele, GA | 12,416
Corinth, MS | 12,469
Corinth, NY | 3,995
Cornelia—Baldwin, GA | 18,578
Corning, AR | 3,180
Corning, CA | 8,553
Corning, NY | 20,477
Corona de Tucson, AZ | 5,469
Corry, PA | 6,571
Corsicana, TX | 22,599
Cortez, CO | 8,380
Cortland, NY | 27,493
Corydon, IN | 5,506
Coshocton, OH | 11,517
Cottage Grove, OR | 11,007
Cottonport, LA | 3,631
Cottonwood, CA | 4,419
Cottonwood—Verde Village, AZ | 26,650
Cotulla, TX | 3,694
Country Lakes, MD | 2,603
Covington, IN | 2,625
Covington, OH | 2,727
Covington, TN | 8,578
Covington, VA | 8,430
Coxsackie, NY | 6,341
Cozad, NE | 3,863
Craig, CO | 10,021
Crane, TX | 3,907
Crawfordsville, IN | 18,012
Crawfordville, FL | 8,342
Crescent City, CA | 18,976
Crescent City, FL | 2,812
Cresco, IA | 3,540
Cresson, PA | 11,106
Creston, IA | 7,617
Crestview, FL | 32,432
Creswell, OR | 6,320
Crete, NE | 6,948
Crewe, VA | 4,323
Crisfield, MD | 3,600
Crittenden, KY | 4,221
Crockett, TX | 6,292
Crooked Lake Park, FL | 4,335
Crookston, MN | 7,964
Crooksville, OH | 4,866
Crosby, MN | 3,478
Cross City, FL | 3,773
Crossett, AR | 7,835
Crossville, TN | 16,337
Crowley, LA | 14,908
Crozet, VA | 5,527
Cruz Bay, VI | 3,090
Crystal City, TX | 7,236
Crystal River, FL | 4,388
Crystal Springs, MS | 5,269
Cuba, MO | 3,273
Cuero, TX | 8,099
Cullman, AL | 18,356
Cullowhee, NC | 10,837
Culpeper, VA | 17,778
Cumberland, KY | 3,711
Curwensville, PA | 2,751
Cushing, OK | 6,742
Cut Bank, MT | 2,878
Cuthbert, GA | 3,811
Cynthiana, KY | 6,421
Dahlgren, VA—MD | 3,515
Dahlonega, GA | 4,812
Daingerfield, TX | 4,976
Dalhart, TX | 7,716
Dallas, OR | 15,340
Dalton, OH | 2,595
Dandridge, TN | 4,959
Dansville, NY | 5,141
Danville, KY | 18,887
Danville, VA—NC | 49,344
Darbydale, OH | 6,195
Darien, GA | 3,682
David City, NE | 2,879
Davis Junction, IL | 2,631
Davis, OK | 2,591
Dawson, GA | 4,466
Dayton, NV | 11,127
Dayton, TN | 10,174
Dayton, TX | 12,075
Dayton, WA | 2,681
De Funiak Springs, FL | 5,812
De Motte, IN | 4,652
De Queen, AR | 6,209
De Soto, KS | 4,701
De Soto, MO | 7,203
De Witt, IA | 4,639
Decatur, IN | 10,440
Decatur, TX | 5,910
Decorah, IA | 8,637
Dededo—Machanao—Apotgan, GU | 139,825
Deer Lodge, MT | 3,217
Deer Park, WA | 3,463
Deerwood, TX | 3,797
Defiance, OH | 18,306
Del Rio, TX | 43,914
Delano, MN | 5,255
Delavan, WI | 12,158
Delhi, LA | 2,770
Delhi, NY | 2,953
Dell Rapids, SD | 3,584
Delphi, IN | 3,008
Delphos, OH | 7,440
Delta, CO | 7,849
Delta, OH | 3,158
Delta, UT | 3,258
Deming, NM | 14,903
Demopolis, AL | 6,452
Denison, IA | 8,240
Denmark, SC | 3,781
Denton Southwest, TX | 3,307
Denton, MD | 4,771
Denver City, TX | 4,938
DeQuincy, LA | 5,017
DeRidder, LA | 13,341
Dermott, AR | 2,816
Desert Hot Springs, CA | 39,445
Detroit Lakes, MN | 7,973
Devils Lake, ND | 7,444
Devine, TX | 5,798
DeWitt, AR | 3,185
Dexter, MO | 9,053
Diamondhead, MS | 7,855
Diboll, TX | 4,461
Dickinson, ND | 17,586
Dickson, TN | 16,016
Dilley, TX | 3,938
Dillon, MT | 4,609
Dillon, SC | 9,777
Dimmitt, TX | 4,373
Discovery Bay, CA | 14,044
Dixon, CA | 18,445
Dixon, IL | 16,858
Dodge Center, MN | 2,641
Dodge City, KS | 27,316
Dodgeville, WI | 4,756
Donaldsonville, LA | 14,571
Donalsonville, GA | 2,745
Dorr, MI | 4,702
Dos Palos, CA | 6,713
Douglas, AZ | 17,673
Douglas, GA | 14,154
Douglas, MI | 2,570
Douglas, WY | 6,175
Dowagiac, MI | 6,082
Downs, IL | 2,666
Dryden, NY | 3,882
Du Quoin, IL | 6,467
Dublin, GA | 20,999
Dublin, TX | 3,543
DuBois, PA | 11,898
Dumas, AR | 5,023
Dumas, TX | 14,836
Duncan, OK | 21,301
Dundee, MI | 3,799
Dunkirk, IN | 3,564
Dunkirk—Fredonia, NY | 25,514
Dunlap, TN | 3,691
Dunn, NC | 14,823
Durand, MI | 4,854
Durango, CO | 17,982
Durant, MS | 2,525
Durant, OK | 16,402
Dwight, IL | 5,353
Dyer, TN | 3,248
Dyersburg, TN | 21,903
Dyersville, IA | 3,620
Eagar, AZ | 6,095
Eagle Grove, IA | 3,076
Eagle Lake, TX | 3,628
Eagle Mountain South, UT | 6,277
Eagle Pass, TX | 49,236
Eagle, CO | 6,073
Earlimart, CA | 13,211
East Aurora, NY | 9,841
East Liverpool, OH—WV—PA | 31,564
East Palestine, OH | 4,944
East Prairie, MO | 3,770
East Prospect, PA | 2,575
East Quincy, CA | 2,674
East Tawas, MI | 4,372
East Troy, WI | 4,306
Eastland, TX | 3,711
Eastman, GA | 6,053
Easton, MD | 17,132
Eaton Rapids, MI | 5,408
Eaton, CO | 4,392
Eaton, OH | 8,112
Eatonton, GA | 3,889
Eatonville, WA | 2,801
Ebensburg, PA | 4,914
Eden, NC | 17,187
Edenton, NC | 4,790
Edgefield, SC | 4,562
Edgerton, WI | 7,208
Edgewood, NM | 3,506
Edinboro, PA | 7,263
Edna, TX | 5,374
Edwards, CO | 17,326
Effingham, IL | 13,800
Eielson AFB, AK | 2,944
El Campo, TX | 11,719
El Dorado Springs, MO | 3,454
El Dorado, AR | 18,944
El Dorado, KS | 14,724
El Paso, IL | 2,776
El Reno, OK | 15,069
Elberton, GA | 5,925
Eldon, MO | 4,555
Eldorado at Santa Fe, NM | 4,372
Eldorado, IL | 4,572
Electra, TX | 2,746
Elgin, TX | 10,043
Elizabeth City, NC | 23,905
Elizabethtown, NC | 3,085
Elk City, OK | 10,855
Elkhorn, WI | 12,484
Elkin, NC | 6,521
Elkins, WV | 11,061
Elko New Market, MN | 3,908
Elko, NV | 18,948
Elkton, VA | 3,657
Ellensburg, WA | 20,987
Ellenville, NY | 6,577
Ellijay, GA | 3,496
Ellsworth, KS | 2,982
Ellsworth, ME | 2,805
Ellsworth, WI | 2,823
Ellwood City, PA | 13,006
Elmwood, IL | 2,660
Eloy, AZ | 6,963
Elroy, TX | 3,708
Elverson, PA | 3,697
Elwood, IN | 9,421
Ely, MN | 3,459
Ely, NV | 4,681
Emajagua, PR | 9,231
Emerald Bay, TX | 3,182
Emmetsburg, IA | 3,628
Emmett, ID | 9,192
Emmitsburg, MD—PA | 6,366
Emporia, KS | 24,830
Emporia, VA | 7,143
Emporium, PA | 2,677
Enfield, NC | 2,672
England, AR | 2,762
Enid, OK | 47,609
Ennis, TX | 18,258
Enterprise, AL | 36,427
Ephraim, UT | 5,781
Ephrata, WA | 6,956
Epping, NH | 3,490
Erwin, TN | 9,788
Escalon, CA | 7,157
Escanaba, MI | 20,850
Espanola, NM | 26,418
Esparto, CA | 3,277
Estacada, OR | 3,838
Estes Park, CO | 7,082
Estherville, IA | 6,192
Estrella, AZ | 11,108
Etowah, TN | 4,129
Eudora, KS | 6,140
Eufaula, AL—GA | 9,520
Eunice, LA | 11,940
Eunice, NM | 2,826
Eureka, CA | 45,034
Eureka, IL | 5,573
Eureka, KS | 2,591
Eureka, MO | 11,260
Evanston, WY | 12,017
Evansville, WI | 5,669
Evarts, KY | 2,646
Everett, PA | 3,220
Evergreen, AL | 2,520
Evergreen, CO | 13,556
Everson, WA | 4,330
Excelsior Springs, MO | 10,943
Fabens, TX | 8,042
Fair Haven, VT | 4,181
Fairbury, IL | 3,784
Fairbury, NE | 3,912
Fairdale, PA | 4,166
Fairfield Glade, TN | 5,584
Fairfield Harbour, NC | 2,726
Fairfield, IA | 10,320
Fairfield, IL | 5,039
Fairfield, TX | 3,280
Fairmont, MN | 9,578
Fairmont, NC | 2,507
Fairmont, WV | 33,409
Fairmount, IN | 2,942
Fairview, TN | 6,373
Falfurrias, TX | 4,929
Fallon, NV | 16,241
Falls City, NE | 4,133
Faribault, MN | 23,696
Farmersville, TX | 3,138
Farmerville, LA | 3,883
Farmington, ME | 3,819
Farmington, MO | 39,370
Farmington, NH | 2,957
Farmville, NC | 4,815
Farmville, VA | 8,999
Fayette, AL | 3,408
Fayette, MO | 2,654
Fayetteville, TN | 9,178
Fearrington Village, NC | 2,642
Federalsburg, MD | 3,190
Fellsmere, FL | 5,294
Fergus Falls, MN | 12,081
Fernandina Beach, FL | 25,239
Fernley, NV | 18,979
Ferriday, LA | 5,931
Filer, ID | 2,639
Fillmore, CA | 15,081
Findlay, OH | 48,441
Firebaugh, CA | 7,281
Firestone—Frederick, CO | 21,474
Fitzgerald, GA | 11,638
Flemingsburg, KY | 2,795
Flora, IL | 4,872
Florence, AZ | 16,586
Florence, CO | 7,314
Florence, OR | 10,177
Floresville, TX | 6,068
Floydada, TX | 3,009
Foley, AL | 26,469
Folkston, GA | 5,961
Fordyce, AR | 3,844
Forest City, IA | 3,966
Forest City, NC | 26,418
Forest Lake, MN | 21,816
Forest, MS | 4,887
Forestville, CA | 5,144
Forks, WA | 3,940
Forney, TX | 27,051
Forrest City, AR | 13,690
Forsyth, GA | 4,834
Forsyth, MO | 6,836
Fort Atkinson, WI | 21,105
Fort Bragg, CA | 10,348
Fort Branch, IN | 4,379
Fort Defiance, AZ—NM | 3,602
Fort Dodge, IA | 25,122
Fort Irwin, CA | 8,845
Fort Leonard Wood, MO | 29,257
Fort Lupton, CO | 9,055
Fort Madison, IA—IL | 10,848
Fort Meade, FL | 6,234
Fort Morgan, CO | 13,178
Fort Payne, AL | 7,018
Fort Plain, NY | 5,730
Fort Polk, LA | 14,300
Fort Scott, KS | 7,895
Fort Stockton, TX | 9,339
Fort Valley, GA | 10,605
Fortuna, CA | 13,084
Fostoria, OH | 14,694
Four Corners, FL | 35,549
Four Corners, MT | 2,527
Fowlerville, MI | 3,794
Frankenmuth, MI | 4,972
Frankfort, IN | 16,684
Frankfort, KY | 35,734
Franklin (Venango County), PA | 9,581
Franklin, KY | 9,442
Franklin, LA | 14,617
Franklin, NC | 6,781
Franklin, NH | 9,582
Franklin, VA | 9,209
Franklin—Highland Lake, NJ | 35,436
Franklinton, LA | 3,506
Fraser, CO | 2,583
Frazier Park, CA | 3,657
Frederick, OK | 3,899
Fredericksburg, TX | 11,511
Fredericktown, MO | 4,217
Freeport, IL | 25,980
Fremont, MI | 4,496
Fremont, NE | 27,471
Fremont, OH | 23,332
Friona, TX | 4,106
Fritch, TX | 3,968
Front Royal, VA | 18,638
Frostproof, FL | 7,626
Fulton, KY—TN | 4,339
Fulton, MO | 12,197
Fulton, MS | 3,217
Gaffney, SC | 20,844
Gainesville, TX | 15,746
Galax, VA | 6,915
Galena, IL | 3,165
Galena, KS—MO | 2,673
Galesburg, IL | 36,001
Galion, OH | 15,966
Galliano—Larose—Cut Off, LA | 21,437
Gallup, NM | 23,114
Galt, CA | 24,912
Galveston, TX | 44,022
Garapan—Dandan, MP | 46,203
Garden City, KS | 29,942
Gardnerville Ranchos, NV | 20,107
Garner, IA | 3,115
Garnett, KS | 3,336
Garrettsville, OH | 6,150
Gatesville, TX | 15,310
Gautier, MS | 3,957
Gaylord, MI | 8,298
Geneseo, IL | 6,531
Geneseo, NY | 8,329
Geneva, AL | 2,654
Geneva, NY | 29,990
Geneva, OH | 7,660
Genoa, IL | 6,413
Genoa, OH | 3,118
Georgetown, DE | 9,034
Georgetown, KY | 30,764
Georgetown, OH | 3,829
Georgetown, SC | 12,320
Gibson City, IL | 3,615
Giddings, TX | 5,030
Gillespie, IL | 5,377
Gillette, WY | 32,721
Gilman, IL | 3,010
Gilmer, TX | 4,978
Girard, KS | 2,547
Gladwin, MI | 2,934
Glasgow, KY | 13,569
Glasgow, MT | 3,301
Glencoe, MN | 5,534
Glendive, MT | 6,494
Glennville, GA | 3,161
Glenville, WV | 3,415
Glenwood Springs, CO | 11,581
Glenwood, IA | 6,088
Glenwood, MD | 3,721
Globe, AZ | 13,515
Gloucester Courthouse, VA | 4,177
Glouster, OH | 2,643
Gloversville, NY | 29,226
Gold Beach, OR | 2,787
Golden Beach, MD | 4,452
Golden Gate Estates, FL | 3,953
Goldendale, WA | 3,329
Gonzales, CA | 8,174
Gonzales, TX | 6,877
Gooding, ID | 3,726
Goodland, KS | 4,553
Goodrich, MI | 5,860
Gothenburg, NE | 3,515
Gouverneur, NY | 4,146
Gowanda, NY | 6,323
Graceville, FL | 4,037
Grafton, ND | 4,219
Grafton, WV | 5,923
Graham, TX | 9,041
Gramercy—Lutcher, LA | 15,279
Granbury, TX | 28,250
Grand Bay, AL | 4,127
Grand Forks AFB, ND | 2,697
Grand Rapids, MN | 9,285
Grand Saline, TX | 3,236
Grandview, WA | 18,407
Granger, WA | 3,048
Grangerland, TX | 5,756
Grangeville, ID | 3,150
Granite Falls, MN | 2,842
Granite Falls, WA | 6,129
Granite Shoals, TX | 5,573
Grants, NM | 12,152
Grantsville, UT | 6,673
Grantville, GA | 2,571
Granville, NY—VT | 2,762
Grass Valley, CA | 34,308
Gray, GA | 4,566
Grayling, MI | 3,858
Grayson, KY | 5,716
Great Barrington, MA | 4,571
Great Bend, KS | 16,177
Green Forest, AR | 2,656
Green River, WY | 12,672
Greenbrier, AR | 4,069
Greencastle, IN | 10,625
Greeneville, TN | 23,957
Greenfield, CA | 16,451
Greenfield, MA | 22,965
Greenfield, OH | 5,100
Greensboro, GA | 2,759
Greensburg, IN | 11,560
Greentown, IN | 3,219
Greenville, AL | 6,026
Greenville, IL | 6,976
Greenville, MI | 9,743
Greenville, MS | 35,025
Greenville, OH | 13,337
Greenville, PA | 10,771
Greenville, TX | 23,283
Greenwich, NY | 2,551
Greenwood, AR | 8,619
Greenwood, MS | 22,380
Greenwood, SC | 42,103
Grenada, MS | 10,481
Gridley, CA | 8,393
Grifton, NC | 3,688
Grinnell, IA | 9,080
Grissom AFB, IN | 6,359
Groesbeck, TX | 3,948
Grottoes, VA | 4,075
Grove City, PA | 11,886
Grove, OK | 7,158
Guadalupe, CA | 7,080
Guerneville, CA | 4,805
Gun Barrel City, TX | 14,884
Gun Lake, MI | 2,660
Gunnison, CO | 6,343
Gunnison, UT | 4,157
Gustine, CA | 5,521
Guthrie, OK | 8,191
Guymon, OK | 11,338
Gypsum, CO | 5,963
Hailey, ID | 10,453
Haleiwa—Waialua—Pupukea, HI | 13,770
Haleyville, AL | 3,922
Half Moon Bay, CA | 20,713
Halls, TN | 2,735
Hallsville, TX | 3,658
Hamburg, AR | 2,724
Hamilton, AL | 3,207
Hamilton, MT | 6,182
Hamilton, NY | 4,427
Hamilton, TX | 3,034
Hammonton, NJ | 13,152
Hampshire, IL | 4,619
Hampstead, NC | 10,716
Hampton, IA | 4,246
Hampton, SC | 4,540
Hanceville, AL | 2,948
Hannibal, MO | 18,472
Hardeeville, SC | 2,957
Hardin, MT | 3,614
Hardyston Township West, NJ | 2,550
Harlan, IA | 4,934
Harlan, KY | 7,065
Harlem, GA | 2,705
Harrah, OK | 3,904
Harriman—Kingston—Rockwood, TN | 23,515
Harrington, DE | 4,448
Harrisburg, IL | 9,463
Harrisburg, OR | 3,637
Harrisburg, SD | 3,071
Harrison, AR | 13,950
Harrison, MI | 3,589
Harrison, OH—IN | 12,910
Harrisonville, MO | 9,358
Harrodsburg, KY | 8,715
Hart, MI | 2,556
Hartford City, IN | 6,160
Hartshorne, OK | 2,539
Hartsville, SC | 15,125
Hartwell, GA | 5,884
Harvard, IL | 9,940
Haskell, TX | 3,090
Hastings, MI | 7,713
Hastings, MN | 22,328
Hastings, NE | 24,312
Havana, FL | 2,771
Havana, IL | 3,302
Havelock, NC | 21,596
Havre, MT | 9,657
Hawaiian Paradise Park, HI | 20,503
Hawkinsville, GA | 3,999
Hawthorne, NV | 3,249
Hays, KS | 21,180
Hayti, MO | 3,489
Hayward, WI | 2,616
Hazard, KY | 7,444
Hazel Green, AL | 3,207
Hazlehurst, GA | 4,594
Hazlehurst, MS | 4,868
Headland, AL | 3,240
Hearne, TX | 4,346
Heavener, OK | 3,760
Hebbronville, TX | 4,378
Heber Springs, AR | 6,357
Heber, UT | 17,212
Hebron, IN | 3,535
Helena, MT | 45,055
Helena-West Helena, AR | 11,321
Hempstead, TX | 5,600
Henderson, NC | 20,858
Henderson, TN | 6,027
Henderson, TX | 15,187
Henrietta, TX | 2,731
Henryetta, OK | 6,562
Hereford, TX | 15,941
Heritage Lake, IN | 2,737
Hermiston, OR | 27,790
Hesston, KS | 3,306
Heyworth, IL | 3,016
Hiawatha, KS | 3,145
Hibbing, MN | 11,616
Hicksville, OH | 3,613
Hidden Valley Lake, CA | 4,647
Higginsville, MO | 4,621
High Springs, FL | 3,022
Highland Oaks, TX | 2,855
Highland, IL | 11,525
Hillsboro, IL | 7,261
Hillsboro, KS | 2,815
Hillsboro, MO | 2,674
Hillsboro, OH | 6,668
Hillsboro, TX | 8,328
Hillsborough, NH | 3,884
Hillsdale, MI | 11,646
Hilmar-Irwin, CA | 4,852
Hilo, HI | 43,925
Hinton, WV | 2,635
Hobart, OK | 3,622
Hobbs, NM | 36,696
Hodgenville, KY | 3,413
Hohenwald, TN | 3,625
Hoisington, KS | 2,709
Holbrook, AZ | 3,800
Holden Beach, NC | 3,136
Holdenville, OK | 5,768
Holdrege, NE | 5,340
Holiday Shores, IL | 2,804
Hollandale, MS | 2,612
Hollister, CA | 42,002
Holloman AFB, NM | 3,054
Holly Springs, MS | 6,160
Holly, MI | 8,229
Holton, KS | 3,245
Holtville, CA | 6,876
Homedale, ID | 2,731
Homer, LA | 3,034
Homerville, GA | 2,690
Homesteads Addition, TX | 6,372
Hominy, OK | 3,493
Hondo, TX | 6,427
Honea Path, SC | 3,505
Honeoye Falls, NY | 5,270
Honesdale, PA | 5,849
Honokaa, HI | 2,667
Hood River, OR—WA | 14,653
Hooks, TX | 2,977
Hoopeston, IL | 5,116
Hoosick Falls, NY | 3,592
Hope, AR | 9,991
Hopkinsville, KY | 32,491
Horicon, WI | 3,493
Hornell, NY | 10,997
Horse Cave, KY | 4,251
Horseshoe Bay, TX | 3,134
Hot Springs Village, AR | 9,144
Hot Springs, SD | 3,550
Houghton Lake, MI | 8,300
Houghton, MI | 15,452
Houlton, ME | 4,128
Houston, MS | 2,557
Houtzdale, PA | 4,081
Hudson, NY | 11,512
Hudson, WI—MN | 22,395
Hugo, OK | 5,028
Hugoton, KS | 3,936
Humboldt, IA | 5,243
Humboldt, TN | 8,769
Huntingburg, IN | 5,501
Huntingdon, PA | 11,385
Huntington, IN | 18,207
Huntsville, TX | 36,928
Huron, CA | 6,754
Huron, SD | 12,637
Hurricane, UT | 16,336
Hutchinson, KS | 44,320
Hutchinson, MN | 14,054
Huxley, IA | 4,094
Idabel, OK | 5,940
Ilion—Herkimer, NY | 24,792
Imlay City, MI | 3,792
Immokalee, FL | 23,160
Incline Village, NV—CA | 13,022
Independence, IA | 5,743
Independence, KS | 9,959
Indiana, PA | 28,807
Indianola, IA | 14,281
Indianola, MS | 10,408
Indianola, WA | 7,938
Indiantown, FL | 6,503
Ingleside—Aransas Pass, TX | 16,522
Interlachen, FL | 5,805
International Falls, MN | 7,055
Iola, KS | 5,729
Ione, CA | 7,820
Ionia, MI | 14,409
Iowa Falls, IA | 5,070
Iowa Park, TX | 6,285
Iowa, LA | 3,252
Iron Mountain—Kingsford, MI—WI | 19,228
Iron River, MI | 3,208
Ironton, MO | 2,673
Ironwood, MI—WI | 7,134
Irrigon, OR | 2,686
Irvine, KY | 3,503
Ishpeming, MI | 12,301
Itta Bena, MS | 4,223
Jacksboro, TX | 4,231
Jackson, AL | 2,920
Jackson, CA | 7,255
Jackson, GA | 5,218
Jackson, KY | 2,567
Jackson, MN | 3,169
Jackson, WY | 11,407
Jacksonville, IL | 22,669
Jacksonville, TX | 14,075
Jackson—Wellston, OH | 11,768
Jaffrey, NH | 3,003
Jamestown, ND | 15,284
Jamestown, NY | 43,404
Jamestown, OH | 3,769
Jasper, AL | 14,156
Jasper, FL | 5,404
Jasper, GA | 5,909
Jasper, IN | 15,759
Jasper, TN | 3,281
Jasper, TX | 7,790
Jayuya, PR | 11,300
Jean Lafitte, LA | 2,700
Jeanerette, LA | 6,680
Jefferson Township North, NJ | 13,714
Jefferson, GA | 10,443
Jefferson, IA | 3,906
Jefferson, NC | 4,129
Jefferson, OH | 3,205
Jena, LA | 3,992
Jennings, LA | 9,869
Jerome, ID | 10,892
Jersey Shore, PA | 9,606
Jerseyville, IL | 8,989
Jesup, GA | 12,660
Jewett City, CT | 10,119
Jim Thorpe, PA | 5,594
Johnson Creek, WI | 2,702
Johnson Lane, NV | 5,337
Johnston City, IL | 3,621
Johnstown, CO | 13,693
Johnstown, OH | 4,523
Jones Creek, TX | 3,182
Jonesboro, LA | 5,609
Jordan, MN | 5,207
Junction City, KS | 38,787
Junction City, OR | 5,966
Junction, TX | 2,566
Juneau, AK | 24,537
Juneau, WI | 2,736
Jupiter Farms, FL | 10,962
Justin, TX | 2,986
Kailua (Hawaii County)—Holualoa, HI | 28,850
Kalaheo, HI | 14,840
Kalama, WA | 3,310
Kalispell, MT | 31,785
Kalkaska, MI | 2,668
Kamas, UT | 2,645
Kanab, UT | 3,212
Kane, PA | 3,770
Kapaa, HI | 19,063
Kapaau, HI | 3,597
Kaplan, LA | 4,826
Karnes City, TX | 3,015
Kasson, MN | 7,048
Kaufman, TX | 6,268
Kayenta, AZ | 4,688
Kearney, MO | 7,368
Kearney, NE | 31,287
Keene, NH | 22,510
Kekaha, HI | 5,313
Kellogg, ID | 3,091
Kelseyville, CA | 3,277
Kemmerer, WY | 3,127
Kenai, AK | 4,921
Kendallville, IN | 10,399
Kenedy, TX | 6,118
Kennebunk, ME | 8,240
Kennett, MO | 11,241
Kenton, OH | 8,360
Keokuk, IA—IL | 13,411
Kerman, CA | 13,487
Kermit, TX | 5,821
Kerrville, TX | 28,810
Ketchikan, AK | 10,352
Ketchum, ID | 3,919
Kewanee, IL | 12,857
Kewaunee, WI | 2,622
Key Largo, FL | 18,121
Key West, FL | 32,095
Keyser, WV—MD | 7,040
Keystone Heights, FL | 6,544
Kiel—New Holstein, WI | 6,912
Kihei, HI | 25,819
Kilauea, HI | 2,611
Kilgore, TX | 15,957
Kill Devil Hills, NC | 19,095
Kimberling City, MO | 3,172
King City, CA | 14,529
King George, VA | 3,303
Kingfisher, OK | 4,144
Kingman, AZ | 42,107
Kingman, KS | 2,978
Kingsland, TX | 6,433
Kingstree, SC | 6,095
Kingsville, TX | 26,011
Kingwood, WV | 3,201
Kinross, MI | 6,555
Kinston, NC | 29,083
Kirksville, MO | 15,914
Kirtland, NM | 8,200
Kittanning—Ford City, PA | 14,072
Klamath Falls—Altamont, OR | 41,434
Knightstown, IN | 2,923
Knox, IN | 3,309
Knoxville, IA | 7,346
Kodiak, AK | 9,335
Kosciusko, MS | 6,983
Kotzebue, AK | 3,200
Krum, TX | 4,173
Kuna, ID | 15,234
Kutztown, PA | 10,002
La Center, WA | 2,759
La Conner, WA | 3,297
La Follette, TN | 21,055
La Grande, OR | 14,909
La Grange, NC | 2,713
La Grange, TX | 5,343
La Junta, CO | 8,191
La Pine Northwest, OR | 2,651
LaBelle—Port LaBelle, FL | 12,054
Laconia, NH | 18,636
Ladysmith, WI | 3,449
LaFayette, GA | 7,364
Lafayette, TN | 4,545
Lago Vista, TX | 5,281
LaGrange, GA | 34,879
Lagrange, IN | 3,113
LaGrange, OH | 3,246
Lahaina, HI | 21,331
Laie—Hauula, HI | 15,071
Lake Arrowhead—Crestline, CA | 22,175
Lake Arthur, LA | 2,786
Lake Bryant, FL | 3,552
Lake Butler, FL | 5,057
Lake City, FL | 25,623
Lake City, MN | 5,103
Lake City, SC | 8,496
Lake Conroe Eastshore, TX | 10,121
Lake Conroe Northshore, TX | 2,547
Lake Conroe Westshore, TX | 20,569
Lake Crystal, MN | 2,558
Lake Delton, WI | 5,473
Lake Geneva, WI | 14,649
Lake Holiday, IL | 7,072
Lake Isabella, CA | 3,271
Lake Lakengren, OH | 3,096
Lake Land'Or, VA | 6,165
Lake Los Angeles, CA | 11,808
Lake Meade, PA | 2,563
Lake Mills, WI | 6,581
Lake Montezuma, AZ | 3,429
Lake Monticello, VA | 9,528
Lake Murray North Shore, SC | 3,626
Lake Norman of Catawba, NC | 5,603
Lake of the Pines, CA | 7,926
Lake of the Woods, VA | 9,231
Lake of the Woods—Pinetop-Lakeside, AZ | 8,805
Lake Panasoffkee, FL | 3,365
Lake Park, GA | 3,367
Lake Placid, FL | 16,351
Lake Placid, NY | 3,581
Lake Pocotopaug—East Hampton, CT | 9,450
Lake Providence, LA | 5,076
Lake Rancho Viejo, CA | 2,500
Lake View, AL | 3,404
Lake Village, AR | 2,586
Lake Wildwood, CA | 7,096
Lakeland, GA | 2,910
Lakeport, CA | 16,583
Lakes—Knik-Fairview—Wasilla, AK | 44,236
Lakeview, OR | 2,895
Lamar, CO | 7,796
Lamar, MO | 4,470
Lamesa, TX | 11,579
Lampasas, TX | 6,080
Lanai City, HI | 3,066
Lancaster, KY | 3,739
Lancaster, OH | 42,557
Lancaster, SC | 23,979
Lancaster, WI | 3,688
Lander, WY | 7,225
Landrum, SC—NC | 4,239
Lapeer, MI | 13,424
Laramie, WY | 31,965
Larned, KS | 4,764
Las Animas, CO | 4,032
Las Vegas, NM | 15,609
Laughlin, NV | 5,949
Laurel Lake, NJ | 3,796
Laurel, MS | 26,131
Laurel, MT | 8,505
Laurens, SC | 10,336
Laurinburg, NC | 21,161
Laurium, MI | 7,325
Lawrenceburg, KY | 12,475
Lawrenceburg, TN | 10,100
Lawrenceburg—Greendale—Aurora, IN | 12,977
Lawrenceville, IL | 7,067
Lawrenceville, VA | 4,032
Le Mars, IA | 9,237
Le Roy, IL | 3,316
Le Roy, NY | 4,275
Le Sueur, MN | 3,763
Lead, SD | 3,750
Leadville, CO | 5,039
Leavenworth, KS | 45,283
Leavenworth, WA | 3,282
Lebanon, IN | 15,415
Lebanon, KY | 5,646
Lebanon, MO | 14,046
Lebanon, OR | 19,744
Lebanon, TN | 27,653
Lebanon, VA | 3,375
Lebanon—Hanover, NH—VT | 25,690
Lee, MA | 8,049
Leesburg, GA | 3,631
Leesville, LA | 9,605
Leitchfield, KY | 6,802
Leland, MS | 4,539
Lemoore Station, CA | 7,438
Lena, IL | 2,602
Leonardtown, MD | 4,737
Levelland, TX | 13,796
Lewes, DE | 24,129
Lewisburg, TN | 10,464
Lewisburg, WV | 6,959
Lewistown, MT | 6,090
Lewistown, PA | 22,181
Lexington, MO | 4,507
Lexington, NE | 10,464
Lexington, TN | 6,560
Lexington, VA | 8,762
Libby, MT | 3,978
Liberal, KS | 20,329
Liberty, NY | 4,470
Liberty, TX | 5,801
Ligonier, IN | 4,789
Ligonier, PA | 3,314
Lihue, HI | 13,983
Lillington, NC | 3,316
Lincoln City, OR | 10,526
Lincoln, IL | 18,224
Lincoln, ND | 2,992
Lincolnton, NC | 22,686
Lindale—Hideaway, TX | 10,021
Lindsay, CA | 14,610
Lindsay, OK | 2,796
Lindsborg, KS | 3,405
Lindstrom—Chisago City, MN | 8,492
Linton, IN | 5,822
Lisbon, OH | 5,740
Litchfield, CT | 2,590
Litchfield, IL | 6,956
Litchfield, MN | 6,624
Little Falls, MN | 9,024
Little Falls, NY | 4,956
Littlefield, TX | 5,914
Littlestown, PA | 6,302
Littleton, NH | 3,518
Live Oak (Sutter County), CA | 8,547
Live Oak, FL | 6,994
Livermore Falls, ME | 3,092
Livingston, MT | 8,172
Livingston, TN | 3,485
Livingston, TX | 5,139
Livonia, LA | 3,813
Llano, TX | 2,832
Lochbuie, CO | 4,120
Lock Haven, PA | 17,741
Lockhart, TX | 12,337
Lockport, NY | 36,024
Locust, NC | 2,925
Lodi, OH | 2,670
Lodi, WI | 3,014
Logan, OH | 8,080
Logan, WV | 10,747
Logansport, IN | 21,561
Lolo, MT | 2,739
London, OH | 14,260
London—Corbin, KY | 37,367
Long Beach, MD | 6,476
Long Neck, DE | 14,150
Long Prairie, MN | 3,356
Lonoke, AR | 4,058
Lonsdale, MN | 3,466
Loogootee, IN | 2,972
Los Alamos, NM | 10,893
Los Banos, CA | 35,917
Los Molinos, CA | 3,800
Louisa, KY—WV | 4,253
Louisburg, KS | 3,930
Louisburg, NC | 3,694
Louisiana, MO | 3,091
Louisville, GA | 3,273
Louisville, MS | 4,624
Lovington, NM | 11,592
Lowell, IN | 9,844
Lowell, MI | 6,803
Lowville, NY | 3,562
Lucasville, OH | 2,931
Lucedale, MS | 2,636
Ludington, MI | 10,710
Lufkin, TX | 44,927
Lula, GA | 2,591
Luling, TX | 5,379
Lumberton, NC | 29,739
Luray, VA | 4,770
Luverne, MN | 4,620
Lykens, PA | 2,973
Lynden, WA | 14,533
Lyndonville, VT | 2,924
Lyons, KS | 3,652
Lytle, TX | 3,475
Mabton, WA | 2,534
Macclenny, FL | 10,984
Mackinaw, IL | 3,452
Macomb, IL | 19,945
Macon, MO | 5,014
Macon, MS | 2,998
Madill, OK | 4,419
Madison, FL | 3,843
Madison, GA | 4,401
Madison, IN—KY | 18,271
Madison, SD | 6,174
Madison, WV | 4,579
Madisonville, KY | 24,809
Madisonville, TN | 5,391
Madisonville, TX | 4,454
Madras, OR | 8,010
Magee, MS | 4,170
Magnolia, AR | 10,438
Magnolia, TX | 3,195
Mahomet, IL | 11,044
Maiden, NC | 3,572
Malakoff, TX | 2,969
Malden, MO | 4,590
Malone, NY | 10,825
Malvern, AR | 11,186
Malvern, OH | 2,800
Mammoth Lakes, CA | 7,693
Mamou, LA | 3,894
Manchester, GA | 4,096
Manchester, IA | 5,032
Manchester, KY | 4,657
Manchester, MD | 5,319
Manchester, TN | 11,379
Mangum, OK | 2,954
Manila, AR | 3,124
Manistee, MI | 9,606
Manistique, MI | 3,482
Manitowoc, WI | 46,360
Mannford, OK | 2,986
Manning, SC | 4,998
Manor, TX | 5,320
Mansfield, LA | 6,061
Mansfield, PA | 4,152
Manteo, NC | 5,399
Manti, UT | 3,290
Many, LA | 2,860
Maquoketa, IA | 6,159
Marana West, AZ | 5,456
Marathon, FL | 8,965
Marble Falls, TX | 6,131
Marengo, IL | 7,731
Marianna, AR | 3,804
Marianna, FL | 6,086
Maricao, PR | 2,697
Maricopa, AZ | 42,337
Marietta, OH—WV | 22,428
Marinette—Menominee, WI—MI | 19,431
Marion Oaks, FL | 14,160
Marion, IN | 43,519
Marion, KY | 2,718
Marion, NC | 13,363
Marion, OH | 46,384
Marion, SC | 7,464
Marion, VA | 7,960
Marks, MS | 3,536
Marksville, LA | 7,517
Marlin, TX | 5,832
Marlow, OK | 4,230
Marquette, MI | 26,946
Marseilles, IL | 4,877
Marshall, IL | 3,775
Marshall, MI | 7,683
Marshall, MN | 13,464
Marshall, MO | 12,665
Marshall, TX | 21,979
Marshall, WI | 3,834
Marshalltown, IA | 26,858
Marshfield, MO | 6,701
Marshfield, WI | 19,421
Martin, TN | 11,397
Martinsburg, PA | 2,733
Martinsville, IN | 13,276
Martinsville, VA | 35,091
Marysville, KS | 2,937
Marysville, OH | 22,348
Maryville, MO | 13,220
Mascoutah, IL | 7,368
Mason City, IA | 27,115
Masontown, PA | 4,443
Massena, NY | 11,259
Mathis, TX | 5,936
Mattawa, WA | 4,988
Mattoon, IL | 18,978
Mauston, WI | 4,401
Maybrook, NY | 2,959
Mayfield, KY | 11,356
Mayodan, NC | 4,382
Maysville, KY—OH | 11,454
Mayville, WI | 5,134
Mazomanie, WI | 2,956
McAlester, OK | 19,501
McComb, MS | 16,388
McConnelsville, OH | 2,652
McCook, NE | 7,563
McFarland, CA | 12,826
McGehee, AR | 3,898
McGregor, TX | 4,893
McKenzie, TN | 5,066
McLeansboro, IL | 2,698
McMinnville, OR | 38,970
McMinnville, TN | 15,386
McPherson, KS | 13,083
McRae, GA | 8,747
Meadville, PA | 23,887
Mecca, CA | 11,253
Medford, WI | 4,046
Medical Lake, WA | 4,918
Medina, NY | 8,382
Medina, TN | 3,636
Melrose, MN | 3,121
Mena, AR | 5,499
Mendota, CA | 11,211
Mendota, IL | 7,195
Menomonie, WI | 17,844
Mercer, PA | 3,838
Meridian, MS | 41,531
Merrill, WI | 10,282
Mescalero Park, TX | 3,460
Mesquite, NV—AZ | 14,284
Metamora, IL | 3,650
Metropolis, IL | 6,607
Metter, GA | 3,633
Mexia, TX | 6,898
Mexico, MO | 11,356
Meyersdale, PA | 2,596
Miami, OK | 16,144
Middlebury, IN | 4,064
Middlebury, VT | 5,350
Middlefield, OH | 4,858
Middleport, OH—WV | 8,559
Middlesborough, KY—TN—VA | 15,330
Middletown, DE | 29,415
Middletown, IN | 2,543
Middleville, MI | 3,236
Mifflinburg, PA | 4,363
Mifflintown, PA | 4,372
Milaca, MN | 2,831
Milan, MI | 7,514
Milan, TN | 7,427
Milbank, SD | 3,283
Miles City, MT | 9,604
Milford, DE | 18,009
Milford, NJ—PA | 2,776
Milledgeville, GA | 29,808
Millen, GA | 2,827
Millersburg, OH | 2,968
Millersburg, PA | 4,540
Millinocket, ME | 3,976
Millsboro, DE | 9,395
Millsboro, PA | 3,728
Millstadt, IL | 3,583
Milton, DE | 2,556
Milton, VT | 8,521
Milton—Lewisburg, PA | 30,806
Minden, LA | 13,338
Minden, NE | 2,891
Mineola, TX | 5,608
Mineral Wells, TX | 16,109
Minerva, OH | 4,579
Minot AFB, ND | 5,521
Minot, ND | 42,650
Missouri Valley, IA | 2,819
Mitchell, IN | 4,193
Mitchell, SD | 14,955
Moab, UT | 6,883
Moapa Valley, NV | 5,907
Moberly, MO | 13,933
Mobridge, SD | 3,457
Mocksville, NC | 5,191
Mojave, CA | 3,236
Molalla, OR | 8,752
Momence, IL | 3,777
Monahans, TX | 7,686
Monett, MO | 8,470
Monmouth, IL | 9,654
Monmouth—Independence, OR | 18,167
Monroe, GA | 15,854
Monroe, WI | 10,883
Monroeville, AL | 4,834
Mont Belvieu, TX | 3,094
Montauk, NY | 2,719
Monte Vista, CO | 4,489
Monterey, TN | 3,010
Montesano—Elma, WA | 8,522
Montevideo, MN | 5,338
Montezuma, GA | 6,900
Montgomery City, MO | 2,629
Montgomery, MN | 2,586
Montgomery, PA | 6,453
Montgomery, WV | 4,689
Monticello, AR | 9,505
Monticello, GA | 2,535
Monticello, IA | 3,180
Monticello, IL | 5,410
Monticello, IN | 8,634
Monticello, KY | 6,716
Monticello, NY | 7,868
Monticello—Big Lake, MN | 25,536
Montpelier, OH | 3,929
Montrose, CO | 22,706
Montrose, MN | 4,470
Moodus, CT | 2,701
Moore Haven, FL | 3,205
Moorefield, WV | 2,732
Moorhead, MS | 2,567
Moose Lake, MN | 3,080
Mora, MN | 3,670
Morehead City, NC | 44,798
Morehead, KY | 7,282
Morgan City, LA | 32,022
Morgan, UT | 3,518
Morganfield, KY | 5,210
Morrilton, AR | 6,272
Morris, IL | 15,668
Morris, MN | 5,123
Morrison, IL | 4,139
Morro Bay—Los Osos, CA | 26,772
Morton, MS | 2,979
Moscow, ID | 24,212
Moscow, PA | 2,811
Moses Lake, WA | 32,978
Moulton, AL | 2,919
Moultrie, GA | 18,677
Moundville, AL | 2,578
Mount Airy, NC—VA | 19,457
Mount Angel, OR | 3,568
Mount Carmel, IL | 7,300
Mount Gilead, OH | 3,884
Mount Holly Springs, PA | 4,416
Mount Hood Village, OR | 3,638
Mount Horeb, WI | 6,997
Mount Morris, IL | 3,457
Mount Morris, NY | 4,028
Mount Olive, NC | 5,196
Mount Orab, OH | 3,030
Mount Pleasant, IA | 8,636
Mount Pleasant, MI | 37,447
Mount Pleasant, TN | 3,507
Mount Pleasant, TX | 15,987
Mount Pleasant, UT | 3,207
Mount Pocono—Emerald Lakes, PA | 24,216
Mount Shasta—Weed, CA | 7,746
Mount Sterling, IL | 4,088
Mount Sterling, KY | 10,835
Mount Union, PA | 3,859
Mount Vernon, IA | 6,455
Mount Vernon, IL | 16,008
Mount Vernon, IN | 7,011
Mount Vernon, KY | 2,626
Mount Vernon, MO | 4,559
Mount Vernon, OH | 22,153
Mount Vernon, TX | 2,585
Mountain City, TN | 2,698
Mountain Grove, MO | 4,603
Mountain Home AFB, ID | 3,238
Mountain Home, AR | 14,180
Mountain Home, ID | 16,531
Mountain House, CA | 9,616
Mountain Lake Park, MD | 4,720
Mukwonago, WI | 20,255
Muldrow—Roland, OK | 5,841
Muleshoe, TX | 5,105
Mullins, SC | 5,512
Muncy, PA | 9,495
Munising, MI | 2,972
Murfreesboro, NC | 2,786
Murphysboro, IL | 9,661
Murray, KY | 19,072
Muscatine, IA | 25,342
Muskogee, OK | 42,052
Mystic Island, NJ | 22,217
Nacogdoches, TX | 34,546
Nantucket, MA | 8,250
Nanty-Glo, PA | 3,918
Napoleon, OH | 8,724
Nappanee, IN | 6,937
Narrows, VA—WV | 4,229
Nashville, AR | 4,488
Nashville, GA | 4,601
Nashville, IL | 3,238
Nassau Village-Ratliff, FL | 5,243
Natchez, MS—LA | 28,199
Natchitoches, LA | 19,763
Navasota, TX | 8,273
Nebraska City, NE | 7,066
Needles, CA—AZ | 8,520
Needville, TX | 2,844
Nelson, GA | 4,091
Nelsonville, OH | 6,359
Neodesha, KS | 2,570
Neosho, MO | 11,955
Nephi, UT | 5,249
Nevada, IA | 6,728
Nevada, MO | 8,832
New Albany, MS | 6,632
New Baden, IL | 3,424
New Boston, TX | 4,707
New Bremen—Minster, OH | 7,431
New Carlisle, IN | 3,662
New Castle, CO | 5,449
New Castle, IN | 22,816
New Castle, PA | 41,907
New Concord, OH | 2,949
New Cordell, OK | 2,876
New Freedom—Shrewsbury, PA—MD | 14,179
New Hampton, IA | 3,292
New Lebanon, OH | 4,078
New Lexington, OH | 4,940
New London, MN | 3,188
New London, WI | 7,643
New Madrid, MO | 3,214
New Martinsville, WV—OH | 6,138
New Philadelphia—Dover, OH | 46,366
New Prague, MN | 7,850
New Richmond, OH | 2,838
New Richmond, WI | 8,275
New Roads, LA | 7,947
New Tazewell, TN | 4,598
New Ulm, MN | 13,367
New Wilmington, PA | 2,638
Newark, NY | 13,799
Newaygo, MI | 3,335
Newberg, OR | 27,001
Newberry, MI | 3,225
Newberry, SC | 12,046
Newcastle, WY | 3,277
Newcomerstown, OH | 4,170
Newfane, NY | 5,626
Newman, CA | 10,223
Newport, AR | 6,288
Newport, NH | 3,142
Newport, OR | 11,188
Newport, PA | 2,657
Newport, TN | 11,603
Newport, VT | 4,004
Newport, WA—ID | 2,619
Newton, IA | 15,655
Newton, IL | 2,923
Newton, KS | 20,654
Newton, MS | 2,810
Newton, NJ | 11,941
Nicholasville, KY | 28,058
Nine Mile Falls, WA | 4,086
Nipomo, CA | 15,882
Nocona, TX | 2,953
Nogales, AZ | 32,044
Nokomis, IL | 3,357
Nome, AK | 3,222
Norfolk, NE | 26,769
Norris, TN | 3,005
North Adams, MA—VT | 18,470
North Baltimore, OH | 3,474
North Branch, MN | 6,447
North Brookfield, MA | 7,194
North Conway, NH | 4,685
North Eagle Butte, SD | 2,645
North East, PA | 6,456
North Manchester, IN | 6,031
North Platte, NE | 25,213
North Shore, CA | 3,012
North Vernon, IN | 11,354
North Webster, IN | 3,662
North Wilkesboro—Wilkesboro, NC | 18,264
Northern Cambria, PA | 6,544
Northfield, MN | 21,535
Northfield, VT | 4,250
Norton, KS | 2,893
Norton—Wise, VA | 10,510
Norwalk, OH | 20,806
Norwich, NY | 8,265
Norwood Young America, MN | 3,486
Nowata, OK | 3,632
Nyssa, OR | 3,475
Oak Harbor, OH | 2,794
Oak Harbor, WA | 33,004
Oak Island, NC | 11,226
Oakdale, LA | 7,878
Oakhurst, CA | 2,913
Oakland City, IN | 2,515
Oakland, TN | 7,057
Oakridge, OR | 3,214
Oberlin, OH | 7,966
Ocala Estates, FL | 2,939
Ocean Park, WA | 3,288
Ocean Pines, MD—DE | 33,105
Ocean Shores, WA | 5,218
Ocean View, DE | 12,342
Oceana, WV | 2,645
Ocilla, GA | 3,366
Oconto Falls, WI | 2,621
Oconto, WI | 4,273
Odem, TX | 2,775
Odessa, MO | 5,199
Oelwein, IA | 6,994
Ogallala, NE | 4,424
Ogdensburg, NY | 11,344
Oil City, PA | 15,296
Okeechobee—Taylor Creek, FL | 25,378
Okemah, OK | 3,152
Okmulgee, OK | 14,053
Olean, NY | 22,324
Olney, IL | 9,177
Olney, TX | 3,282
Omak, WA | 8,229
Omro, WI | 3,358
Onalaska, TX | 5,016
Onawa, IA | 2,662
Oneida, NY | 21,784
Oneida, TN | 4,322
O'Neill, NE | 3,682
Oneonta, AL | 5,374
Oneonta, NY | 17,229
Ontario, OR—ID | 25,539
Oostburg, WI | 2,724
Opelousas, LA | 25,534
Opp, AL | 4,806
Orange City, IA | 6,842
Orange Cove, CA | 9,774
Orange, VA | 4,902
Orangeburg, SC | 33,506
Orangetree, FL | 7,624
Oregon, IL | 3,813
Oregon, WI | 11,059
Orland, CA | 9,282
Orofino, ID | 3,626
Orosi, CA | 15,150
Oroville, CA | 37,122
Orrville, OH | 8,563
Orwigsburg, PA | 5,645
Osage Beach, MO | 3,706
Osage City, KS | 2,683
Osage, IA | 3,535
Osawatomie, KS | 4,365
Osburn, ID | 2,521
Osceola, AR | 8,280
Osceola, IA | 4,819
Osceola, WI | 3,593
Oskaloosa, IA | 12,545
Ossian, IN | 3,711
Oswego, NY | 39,385
Othello, WA | 11,207
Otisville, NY | 4,207
Otsego—Plainwell, MI | 11,740
Ottawa, IL | 20,612
Ottawa, KS | 12,450
Ottawa, OH | 5,270
Ottumwa, IA | 24,771
Owatonna, MN | 25,394
Owego, NY | 5,071
Owensville, MO | 2,912
Owosso, MI | 22,426
Oxford, MS | 25,768
Oxford, NC | 9,174
Oxford, OH | 21,376
Ozark, AL | 12,066
Ozark, AR | 3,153
Ozona, TX | 2,873
Pacific, MO | 10,327
Paden City, WV | 2,682
Paducah, KY—IL | 48,791
Page, AZ | 6,665
Pageland, SC | 4,100
Pagosa Springs, CO | 4,909
Pahokee, FL | 7,179
Pahrump, NV | 28,446
Paintsville, KY | 6,027
Palacios, TX | 4,591
Palatka, FL | 23,982
Palestine, TX | 19,254
Palmyra, MO | 3,577
Palmyra, NY | 5,214
Paloma Creek South—Paloma Creek, TX | 5,234
Pampa, TX | 18,166
Pana, IL | 5,943
Panama City Northeast, FL | 5,817
Paola, KS | 5,399
Paoli, IN | 3,282
Paradise, CA | 34,725
Paragould, AR | 24,620
Paris, AR | 3,143
Paris, IL | 8,953
Paris, KY | 11,042
Paris, TN | 10,642
Paris, TX | 26,349
Park City, UT | 13,352
Park Rapids, MN | 3,398
Parker, AZ—CA | 4,768
Parlier, CA | 14,490
Parowan, UT | 2,551
Parsons, KS | 10,298
Patterson, CA | 20,781
Patton, PA | 2,798
Paulding, OH | 3,550
Pauls Valley, OK | 5,835
Paw Paw Lake—Hartford, MI | 11,589
Paw Paw, MI | 8,684
Pawhuska, OK | 3,623
Pawleys Island, SC | 11,532
Pawnee, IL | 2,869
Paxton, IL | 4,916
Payson, AZ | 14,210
Peaceful Valley, WA | 3,025
Pearisburg, VA | 2,884
Pearsall, TX | 9,460
Pecan Acres, TX | 5,269
Pecan Plantation, TX | 6,366
Pecos, TX | 11,785
Pelham, GA | 3,750
Pell City, AL | 11,096
Pella, IA | 9,745
Pembroke, NC | 7,436
Pendleton, OR | 17,216
Penn Yan, NY | 6,777
Peotone, IL | 4,172
Perham, MN | 2,929
Perry, FL | 6,933
Perry, IA | 7,628
Perry, MI | 4,290
Perry, NY | 3,688
Perry, OK | 5,052
Perryton, TX | 8,801
Perryville, MO | 8,419
Peru, IN | 13,095
Peru—LaSalle, IL | 32,048
Peshtigo, WI | 3,441
Peterborough, NH | 3,165
Petersburg, IL | 3,088
Petersburg, WV | 2,545
Petoskey, MI | 8,210
Phelan, CA | 6,629
Philadelphia, MS | 7,759
Philippi, WV | 2,700
Philipsburg, PA | 10,015
Phillipsburg, KS | 2,609
Picayune, MS | 16,792
Picture Rocks, AZ | 4,345
Piedmont, AL | 3,666
Pierre Part, LA | 3,829
Pierre, SD | 14,425
Piggott, AR | 3,437
Pikeville, KY | 7,936
Pilot Point, TX | 3,579
Pinckneyville, IL | 5,670
Pine City, MN | 3,032
Pine Grove, PA | 3,462
Pine Island, MN | 2,945
Pine Ridge, SD | 2,720
Pinehurst—Southern Pines, NC | 36,272
Pipestone, MN | 4,098
Piqua, OH | 21,104
Pittsboro, NC | 3,410
Pittsburg, KS | 22,918
Pittsburg, TX | 4,777
Pittsfield, IL | 4,550
Pittsfield, ME | 2,523
Placerville—Diamond Springs, CA | 29,700
Plain City, OH | 4,223
Plainview, MN | 3,329
Plainview, TX | 25,810
Planada, CA | 4,523
Platte City, MO | 8,958
Platteville, WI | 11,236
Plattsburgh, NY | 29,438
Plattsmouth, NE | 6,596
Pleasant Hill, MO | 8,049
Pleasant View, TN | 3,730
Pleasanton, TX | 12,468
Plumas Lake, CA | 5,252
Plymouth, IN | 12,498
Plymouth, NC | 4,265
Plymouth, NH | 4,959
Plymouth, WI | 8,799
Pocahontas, AR | 5,854
Pocomoke City, MD | 4,329
Pocono Woodland Lakes, PA | 7,020
Poinciana Southwest, FL | 5,501
Poinciana, FL | 41,922
Point Pleasant—Gallipolis, OH—WV | 11,217
Pojoaque, NM | 4,733
Polk City, IA | 3,122
Polson, MT | 4,763
Ponca City, OK | 26,047
Pontiac, IL | 12,323
Pontotoc, MS | 4,807
Poolesville, MD | 4,620
Poplar Bluff, MO | 20,463
Poplar, MT | 2,743
Poplar-Cotton Center, CA | 3,158
Port Angeles, WA | 22,863
Port Barre, LA | 2,570
Port Clinton, OH | 13,349
Port Hadlock-Irondale, WA | 4,305
Port Isabel—Laguna Heights, TX | 14,950
Port Jervis, NY—PA | 16,787
Port Lavaca, TX | 11,817
Port St. Joe, FL | 3,635
Port Townsend, WA | 8,400
Portage, PA | 7,247
Portage, WI | 10,391
Portageville, MO | 3,151
Portales, NM | 12,610
Portland, IN | 6,006
Portland, MI | 5,020
Portland, TN—KY | 10,869
Portola, CA | 2,523
Portsmouth, OH—KY | 36,232
Post, TX | 5,018
Poteau, OK | 7,791
Poteet, TX | 3,199
Potosi, MO | 4,919
Potsdam, NY | 9,310
Pottsville, PA | 43,247
Powell, WY | 6,389
Prairie du Chien, WI—IA | 6,872
Prairie du Sac—Sauk City, WI | 7,733
Prairie Grove, AR | 3,213
Prairie View, TX | 5,569
Pratt, KS | 6,546
Premont, TX | 2,620
Prescott, AR | 2,773
Prescott, WI | 4,152
Presidential Lakes Estates, NJ | 3,015
Presidio, TX | 4,654
Presque Isle, ME | 6,081
Preston, ID | 4,323
Prestonsburg, KY | 5,965
Price, UT | 14,187
Priceville, AL | 3,006
Prince Frederick, MD | 6,357
Princess Anne, MD | 10,396
Princeton, IL | 8,043
Princeton, IN | 8,645
Princeton, KY | 5,890
Princeton, MN | 4,942
Princeville, HI | 2,653
Prineville, OR | 10,905
Provincetown, MA | 3,152
Pryor Creek, OK | 9,325
Pukalani—Makawao—Haiku-Pauwela, HI | 26,128
Pulaski, TN | 7,741
Pulaski, VA | 16,066
Pulaski, WI | 3,363
Pullman, WA | 29,729
Punxsutawney, PA | 6,394
Purcell, OK | 6,877
Purcellville, VA | 11,951
Quarryville, PA | 7,233
Quartzsite, AZ | 3,342
Quincy, FL | 9,292
Quincy, IL | 45,228
Quincy, WA | 6,986
Quitman, GA | 3,769
Quitman, TX | 2,505
Rainbow Lakes Estates, FL | 5,155
Ramona, CA | 25,913
Ramseur, NC | 2,951
Rancho Calaveras—Valley Springs, CA | 7,457
Rancho Murieta, CA | 5,376
Rantoul, IL | 14,071
Rathdrum, ID | 6,539
Raton, NM | 6,551
Ravena, NY | 5,358
Ravenswood, WV | 4,150
Rawlins, WY | 9,272
Raymond, MS | 3,178
Raymond, WA | 4,082
Raymondville, TX | 14,481
Rayne, LA | 9,385
Rayville, LA | 4,267
Red Bluff, CA | 18,434
Red Bud, IL | 3,695
Red Hook, NY | 6,661
Red Oak, IA | 5,597
Red Springs, NC | 4,185
Red Wing, MN | 14,367
Redmond, OR | 27,685
Redwood Falls, MN | 4,958
Reedley—Dinuba, CA | 46,247
Reedsburg, WI | 9,190
Reedsport, OR | 4,487
Refugio, TX | 2,903
Reidsville, GA | 4,945
Reidsville, NC | 14,067
Rensselaer, IN | 6,048
Rexburg, ID | 26,852
Reynoldsville, PA | 2,839
Rhinebeck, NY | 3,032
Rhinelander, WI | 9,010
Rice Lake, WI | 9,507
Richfield, UT | 7,340
Richgrove, CA | 2,867
Richland Center, WI | 5,021
Richlands South, NC | 5,278
Richlands, VA | 9,588
Richmond, IN—OH | 44,136
Richmond, KY | 35,540
Richmond, MI | 6,140
Richmond, MO | 5,307
Ridge Manor, FL | 2,971
Ridgecrest, CA | 31,155
Ridgefield, WA | 4,259
Ridgeland, SC | 5,301
Ridgway, PA | 4,410
Rifle, CO | 10,479
Rigby, ID | 8,729
Rincon, GA | 12,111
Rio Bravo—El Cenizo, TX | 8,067
Rio Dell, CA | 4,079
Rio Grande City—Roma, TX | 46,344
Rio Hondo, TX | 4,423
Rio Rico Northeast, AZ | 2,628
Rio Vista, CA | 7,097
Ripley, MS | 3,592
Ripley, TN | 8,763
Ripley, WV | 4,193
Ripon, WI | 7,930
River Falls, WI | 15,351
Riverdale, CA | 2,823
Riverton, WY | 12,265
Roanoke Rapids, NC | 24,450
Roanoke, AL | 4,275
Roaring Spring, PA | 7,130
Robertsdale, AL | 7,601
Robinson, IL | 7,894
Robstown, TX | 11,991
Rochelle, IL | 11,342
Rochester, IN | 7,309
Rock Springs, WY | 26,352
Rock Valley, IA | 3,052
Rockdale, TX | 5,459
Rockford, MN | 4,618
Rockingham—Hamlet, NC | 25,404
Rockland, ME | 8,775
Rockmart, GA | 7,646
Rockport, TX | 16,322
Rockville, IN | 4,339
Rocky Ford, CO | 4,161
Rocky Mount, VA | 6,048
Rogers City, MI | 2,560
Rogersville, MO | 2,878
Rogersville, TN | 6,444
Rolla, MO | 20,160
Romancoke, MD | 3,538
Rome, NY | 33,428
Roosevelt, UT | 5,915
Rosamond, CA | 16,000
Rose Hill, KS | 3,650
Roseau, MN | 2,763
Roseburg, OR | 41,700
Roswell, NM | 49,727
Roxboro, NC | 9,660
Roxborough Park, CO | 8,503
Royston, GA | 3,002
Ruckersville, VA | 5,785
Rugby, ND | 2,824
Ruidoso, NM | 9,596
Ruleville, MS | 2,998
Rumford, ME | 4,987
Running Springs, CA | 4,811
Rupert, ID | 6,346
Rush City, MN | 2,883
Rushville, IL | 3,196
Rushville, IN | 6,738
Rusk, TX | 4,691
Russell, KS | 4,108
Russells Point, OH | 6,523
Russellville, AL | 9,866
Russellville, AR | 32,733
Russellville, KY | 6,714
Ruston, LA | 27,724
Rutland, VT | 19,840
Sabetha, KS | 2,526
Sabina, OH | 2,512
Safford, AZ | 19,151
Sahuarita—Green Valley, AZ | 40,691
Salamanca, NY | 5,738
Salem, IL | 8,300
Salem, IN | 6,544
Salem, MO | 4,921
Salem, NJ | 5,724
Salem, OH | 18,617
Salida, CO | 6,663
Salina, KS | 47,493
Sallisaw, OK | 8,179
Salmon, ID | 3,084
Saltillo, MS | 4,303
Saluda, SC | 3,528
San Carlos, AZ | 3,993
San Diego, TX | 4,757
San Joaquin, CA | 3,983
San Jose (Tinian Municipality), MP | 2,794
San Luis, AZ | 24,091
San Manuel, AZ | 3,185
San Saba, TX | 3,105
Sandersville, GA | 7,288
Sandpoint, ID | 10,840
Sandusky, MI | 2,775
Sandusky, OH | 48,990
Sandy, OR | 9,954
Sanford, ME | 13,584
Sanford, NC | 33,120
Sanger, CA | 26,604
Sanger, TX | 5,972
Santa Isabel, PR | 10,550
Santa Paula, CA | 29,742
Santa Rosa Beach, FL | 4,512
Santa Rosa, NM | 2,621
Santaquin, UT | 9,936
Santo Domingo Pueblo, NM | 2,567
Saranac Lake, NY | 7,698
Sauk Centre, MN | 4,253
Sault Ste. Marie, MI | 13,114
Savanna, IL—IA | 3,362
Savannah, MO | 5,138
Savannah, TN | 8,347
Saw Creek, PA | 5,880
Sayre, OK | 4,041
Sayre—Waverly, PA—NY | 17,991
Schulenburg, TX | 2,726
Schuyler, NE | 6,255
Scott City, KS | 3,647
Scott City, MO | 5,216
Scottsbluff, NE | 25,946
Scottsboro, AL | 10,069
Scottsburg, IN | 11,434
Scottsville, KY | 4,251
Sealy, TX | 5,562
Searcy, AR | 25,979
Seaside, OR | 8,489
Sedalia, MO | 26,178
Sedona, AZ | 6,761
Seguin, TX | 24,122
Selma, AL | 23,821
Selma, CA | 41,810
Selmer, TN | 3,840
Seminole, OK | 5,931
Seminole, TX | 6,477
Senatobia, MS | 6,531
Seneca, SC | 26,054
Sequim, WA | 19,286
Seven Lakes, NC | 3,757
Severance, CO | 2,670
Sevierville, TN | 22,108
Seville, OH | 7,396
Seward, NE | 6,636
Seymour (Outagamie County), WI | 3,500
Seymour, IN | 20,695
Shady Cove, OR | 3,379
Shady Side—Deale, MD | 10,784
Shafter, CA | 18,098
Shallowater, TX | 3,229
Shamokin—Mount Carmel, PA | 30,185
Shannondale, WV | 2,577
Shawano, WI | 10,527
Shawnee, OK | 34,255
Shelby, MT | 3,037
Shelby, NC | 27,374
Shelby, OH | 9,305
Shelbyville, IL | 4,974
Shelbyville, IN | 20,795
Shelbyville, KY | 20,621
Shelbyville, TN | 20,005
Sheldon, IA | 4,887
Shelley, ID | 4,701
Shelton, WA | 18,705
Shenandoah, IA | 5,203
Shenandoah—Mahanoy City—Frackville, PA | 19,009
Shepherdstown, WV—MD | 4,856
Sheridan, AR | 4,458
Sheridan, IN | 2,745
Sheridan, OR | 8,468
Sheridan, WY | 18,786
Shippensburg, PA | 17,008
Shiprock, NM | 6,669
Shorewood Forest, IN | 3,079
Show Low, AZ | 10,409
Sibley, IA | 2,690
Sidney, MT | 5,438
Sidney, NE | 6,373
Sidney, NY | 5,565
Sidney, OH | 21,956
Sierra View—Indian Mountain Lake, PA | 28,347
Sikeston, MO | 16,536
Siler City, NC | 9,076
Siloam Springs, AR—OK | 19,326
Silsbee, TX | 9,531
Silt, CO | 2,966
Silver City, NM | 12,705
Silver Creek, NY | 3,799
Silver Lakes, CA | 5,394
Silverthorne—Frisco, CO | 15,351
Silverton, OR | 9,614
Sinton, TX | 6,071
Sioux Center, IA | 6,649
Sissonville, WV | 2,888
Sitka, AK | 7,027
Skaneateles, NY | 3,524
Skiatook, OK | 6,768
Skowhegan, ME | 4,751
Slaton, TX | 5,938
Sleepy Eye, MN | 3,479
Slippery Rock, PA | 6,716
Smithfield, NC | 27,155
Smithfield, VA | 10,215
Smithton, IL | 3,720
Smithville North, MO | 2,751
Smithville, TN | 4,050
Smithville, TX | 3,750
Sneads Ferry, NC | 3,899
Snoqualmie, WA | 20,592
Snowflake, AZ | 6,279
Snyder, TX | 11,557
Social Circle, GA | 3,328
Socorro, NM | 8,991
Soda Springs, ID | 2,793
Sodus, NY | 2,865
Soldotna, AK | 6,526
Soledad, CA | 25,943
Solvang—Buellton—Santa Ynez, CA | 14,862
Somerset, KY | 29,042
Somerset, MI | 2,910
Somerset, PA | 12,583
Somerset, WI | 2,604
Somerton, AZ | 16,988
Sonoma, CA | 32,678
Sonora, TX | 3,352
Sonora—Jamestown—Phoenix Lake, CA | 28,255
Soperton, GA | 2,832
South Boston, VA | 8,306
South Deerfield, MA | 5,028
South Fallsburg, NY | 3,388
South Haven, MI | 5,791
South Hill, VA | 4,834
South Lake Tahoe, CA—NV | 29,107
South Paris, ME | 4,780
South Pittsburg, TN—AL | 5,373
South Vacherie, LA | 2,621
Southold, NY | 9,810
Sparta, GA | 3,622
Sparta, IL | 4,046
Sparta, MI | 4,041
Sparta, TN | 5,449
Sparta, WI | 9,907
Spearfish, SD | 11,459
Spearman, TX | 3,349
Spencer, IA | 10,952
Spencer, WV | 2,986
Spirit Lake, IA | 10,826
Spooner, WI | 2,673
Spout Springs, NC | 14,488
Spring Creek North, NV | 3,286
Spring Creek South, NV | 3,862
Spring Hill, KS | 5,452
Spring Hill, TN | 31,208
Springfield, GA | 3,649
Springfield, TN | 17,357
Springfield, VT | 4,872
Springhill, LA | 6,012
Springs, NY | 12,604
Springtown, TX | 2,623
Springville, AL | 2,775
Springville, NY | 3,897
Spruce Pine, NC | 4,700
St. Albans, VT | 9,054
St. Anthony, ID | 3,702
St. Charles, MN | 2,977
St. Clair, MO | 5,971
St. Francis, MN | 6,212
St. Helena, CA | 6,727
St. Helens, OR | 25,650
St. Ignace, MI | 2,531
St. James, MN | 4,585
St. James, MO | 4,123
St. James, NC | 2,604
St. Johns, AZ | 2,550
St. Johns, MI | 8,425
St. Johnsbury, VT | 5,073
St. Joseph, IL | 5,047
St. Maries, ID | 2,608
St. Martinville, LA | 7,220
St. Marys, KS | 2,669
St. Marys, OH | 9,373
St. Marys, PA | 9,585
St. Marys, WV—OH | 4,315
St. Marys—Kingsland, GA | 34,630
St. Pauls, NC | 3,288
St. Peter, MN | 11,634
St. Simons, GA | 12,226
Stafford Springs, CT | 5,581
Stamford, TX | 3,000
Stanford, KY | 4,183
Stanley, WI | 3,447
Stansbury Park, UT | 9,061
Stanton, KY | 4,149
Stanwood, WA | 6,289
Staples, MN | 2,791
Star, ID | 5,751
Starke, FL | 5,676
Starkville, MS | 30,307
Statesboro, GA | 36,314
Staunton, IL | 6,134
Stayton, OR | 10,291
Ste. Genevieve, MO | 4,329
Steamboat Springs, CO | 12,888
Steeleville, IL | 3,469
Stephenville, TX | 16,796
Sterling, CO | 16,088
Sterling, IL | 28,827
Stevens Point, WI | 44,223
Stewartstown, PA | 4,663
Stewartville, MN | 5,877
Stigler, OK | 2,843
Stillwater, OK | 44,515
Stilwell, OK | 3,789
Storm Lake, IA | 11,364
Story City, IA | 3,311
Strasburg, VA | 7,015
Strawberry Plains, TN | 3,906
Streator, IL | 17,797
Stuarts Draft, VA | 8,168
Sturgeon Bay, WI | 8,617
Sturgis, MI | 13,040
Sturgis, SD | 6,583
Stuttgart, AR | 9,233
Sugarmill Woods, FL | 8,816
Sullivan City, TX | 5,694
Sullivan, IL | 4,567
Sullivan, IN | 4,518
Sullivan, MO | 9,114
Sulphur Springs, TX | 14,196
Sulphur, OK | 4,733
Sultan, WA | 7,982
Sumiton, AL | 4,043
Summersville, WV | 3,369
Summerville, GA | 11,041
Summit Park, UT | 6,088
Sun City Hilton Head, SC | 12,555
Sunbury, PA | 29,541
Sunnyside, WA | 17,327
Sunrise Shores, TX | 3,514
Sunset, LA | 3,500
Superior, AZ | 2,844
Susanville, CA | 10,285
Susquehanna Depot, PA | 2,585
Sutherlin, OR | 8,653
Swainsboro, GA | 7,484
Swansboro, NC | 16,335
Swanton, VT | 3,055
Sweeny, TX | 3,584
Sweet Home, OR | 9,569
Sweetwater, TN | 5,430
Sweetwater, TX | 10,247
Sylacauga, AL | 17,991
Sylvan Beach, NY | 3,451
Sylvania, GA | 3,076
Sylvester, GA | 6,685
Syracuse, IN | 6,908
Tabor City, NC—SC | 3,834
Taft, CA | 14,985
Taft, TX | 4,401
Tafuna, AS | 43,450
Tahlequah, OK | 18,521
Tahoka, TX | 2,560
Talladega, AL | 13,493
Tallassee, AL | 4,040
Tallulah, LA | 9,185
Tama, IA | 4,904
Tamaqua, PA | 15,200
Taneytown, MD | 6,599
Taos, NM | 13,686
Tappahannock, VA | 2,534
Tarboro, NC | 13,581
Taylor, TX | 14,436
Taylorsville, NC | 5,388
Taylorville, IL | 13,742
Tazewell, VA | 4,950
Tea, SD | 3,784
Teague, TX | 3,363
Tehachapi—Golden Hills, CA | 16,540
Tell City, IN—KY | 9,610
Terra Bella, CA | 3,119
Terrell, TX | 14,834
Thayer, MO—AR | 2,985
The Dalles, OR—WA | 17,665
Thermopolis, WY | 3,297
Thief River Falls, MN | 8,883
Thomaston, GA | 14,416
Thomasville, AL | 3,285
Thomasville, GA | 24,139
Thomson, GA | 8,540
Three Rivers, MI | 10,820
Thurmont, MD | 6,854
Ticonderoga, NY | 2,850
Tiffin, OH | 19,546
Tifton, GA | 23,757
Tillamook, OR | 7,675
Tipton, CA | 2,543
Tipton, IA | 3,067
Tipton, IN | 6,523
Tipton, MO | 3,201
Titusville, PA | 5,732
Toccoa, GA | 10,846
Toledo, OR | 3,582
Tomah, WI | 9,002
Tomahawk, WI | 2,926
Tonganoxie, KS | 4,941
Tonkawa, OK | 3,141
Tooele, UT | 31,058
Toppenish, WA | 14,512
Tornillo, TX | 2,822
Torrington, CT | 42,754
Torrington, WY | 7,155
Towanda, PA | 4,588
Traverse City, MI | 47,109
Treasure Lake, PA | 2,982
Tremonton, UT | 9,890
Trenton, FL | 2,724
Trenton, GA | 2,850
Trenton, IL | 2,736
Trenton, MO | 5,596
Trenton, TN | 3,852
Tri-City—Myrtle Creek, OR | 8,492
Trinidad, CO | 9,181
Trinity, TX | 3,320
Troy, AL | 15,897
Troy, MO | 13,231
Troy, NC | 3,618
Truckee, CA | 12,139
Trumann, AR | 7,095
Truth or Consequences, NM | 7,918
Tuba City, AZ | 8,858
Tucumcari, NM | 5,283
Tularosa, NM | 2,735
Tulia, TX | 4,903
Tullahoma, TN | 17,250
Tunica, MS | 3,662
Tunkhannock, PA | 3,426
Tupelo, MS | 40,995
Tupper Lake, NY | 4,204
Tuscola, IL | 4,791
Tuskegee, AL | 9,536
Tuttle, OK | 2,517
Twentynine Palms Base, CA | 8,384
Twentynine Palms, CA | 12,895
Twin Falls, ID | 48,836
Twin Lakes, VA | 3,191
Two Harbors, MN | 3,588
Tybee Island, GA | 3,202
Tyrone, PA | 7,622
Ukiah, CA | 29,709
Ulysses, KS | 6,279
Unadilla, GA | 3,406
Union City, IN—OH | 5,443
Union City, PA | 3,381
Union City, TN | 10,303
Union Grove, WI | 6,973
Union Springs, AL | 5,307
Union, MO | 8,658
Union, SC | 10,033
Upland, IN | 3,343
Upper Greenwood Lake, NJ | 3,879
Upper Sandusky, OH | 6,055
Urbana, OH | 11,699
Uvalde, TX | 18,118
Vado, NM | 4,497
Vail, AZ | 9,164
Vail, CO | 5,823
Valatie, NY | 5,336
Valentine, NE | 2,713
Valley City, ND | 6,689
Valley—Lanett, AL—GA | 20,760
Van Wert, OH | 10,747
Van, TX | 2,502
Vandalia, IL | 7,309
Vandalia, MO | 3,656
Vandenberg AFB, CA | 3,047
Vassar, MI | 3,714
Veneta, OR | 5,979
Venus, TX | 3,559
Vergennes, VT | 2,592
Vermillion, SD | 10,492
Vernal, UT | 17,321
Vernon, TX | 10,572
Versailles, KY | 15,907
Versailles, OH | 3,295
Vicksburg, MS—LA | 29,022
Vidalia, GA | 13,442
Vienna, GA | 3,506
Vieques (Vieques Municipio), PR | 8,230
Village of Four Seasons, MO | 4,451
Village of Oak Creek (Big Park), AZ | 5,309
Ville Platte, LA | 9,328
Vincennes, IN | 21,302
Vineyard Haven, MA | 10,082
Vinita, OK | 6,002
Vinton, IA | 5,044
Vinton, LA | 2,752
Virden, IL | 4,266
Virginia, MN | 12,883
Viroqua, WI | 4,097
Vistancia, AZ | 6,615
Vivian, LA | 2,980
Wabash, IN | 10,418
Waconia, MN | 10,748
Wadena, MN | 3,927
Wadesboro, NC | 5,791
Wagoner, OK | 8,043
Wahoo, NE | 4,450
Wahpeton, ND—MN | 11,113
Waikoloa Village, HI | 4,089
Waimea (Hawaii County), HI | 6,960
Walden, NY | 11,565
Waldport, OR | 3,434
Waldron, AR | 3,330
Walkerton, IN | 3,035
Wallace, NC | 4,345
Walnut Ridge, AR | 6,346
Walsenburg, CO | 2,943
Walterboro, SC | 9,502
Walters, OK | 2,506
Walton, NY | 3,067
Walworth, NY | 3,089
Walworth, WI | 4,383
Wamego, KS | 4,418
Wapakoneta, OH | 10,684
Wapato, WA | 7,607
Warden, WA | 2,679
Ware, MA | 9,146
Warren, AR | 5,801
Warren, PA | 15,420
Warrensburg, MO | 20,677
Warrensburg, NY | 2,648
Warrenton, MO | 9,079
Warsaw, IN | 30,166
Warsaw, MO | 2,565
Warsaw, NC | 3,045
Warsaw, NY | 3,017
Warwick, NY | 12,080
Wasco, CA | 25,489
Waseca, MN | 9,537
Washington Court House, OH | 15,168
Washington, GA | 3,457
Washington, IA | 6,628
Washington, IN | 12,462
Washington, MO | 14,316
Washington, NC | 16,429
Washington, NJ | 15,385
Washoe Valley, NV | 2,645
Watchtower, NY | 3,936
Water Valley, MS | 2,622
Waterbury, VT | 2,971
Waterford, CA | 9,104
Waterloo, IL | 9,604
Waterloo, WI | 3,059
Watertown, MN | 4,185
Watertown, SD | 21,111
Watertown, WI | 23,347
Waterville, ME | 25,689
Watkins Glen, NY | 3,457
Watonga, OK | 5,084
Watseka, IL | 5,055
Wauchula, FL | 14,621
Waukon, IA | 3,731
Waupaca, WI | 7,755
Waupun, WI | 11,373
Wauseon, OH | 7,193
Wautoma, WI | 2,573
Waverly City, OH | 7,396
Waverly, IA | 8,621
Waverly, NE | 3,133
Waverly, TN | 3,246
Waycross, GA | 25,723
Wayland, MI | 4,518
Wayne, NE | 5,557
Waynesboro, GA | 5,830
Waynesboro, MS | 4,224
Waynesboro, PA—MD | 25,912
Waynesburg, PA | 8,665
Weatherford, OK | 10,713
Weatherford, TX | 34,824
Webster City, IA | 7,761
Wedgefield, FL | 4,505
Weedsport, NY | 3,112
Weiser, ID—OR | 5,659
Welch, WV | 3,098
Wellington, CO | 6,224
Wellington, KS | 7,783
Wellington, OH | 4,845
Wellsville, NY | 6,084
Welsh, LA | 2,631
Wendell, ID | 2,756
Wendell—Zebulon, NC | 13,209
West Columbia, TX | 4,976
West Frankfort, IL | 8,954
West Jefferson, OH | 4,572
West Lafayette, OH | 2,534
West Liberty, IA | 3,690
West Plains, MO | 11,242
West Point, MS | 9,173
West Point, NE | 3,180
West Point, NY | 12,141
West Point, VA | 2,675
West Tawakoni, TX | 7,606
West Union, OH | 3,133
West Wendover, NV—UT | 5,365
West, TX | 2,780
Westernport, MD—WV | 5,831
Westfield, NY | 3,015
Weston Lakes, TX | 2,928
Weston, WV | 5,077
Westville, IN | 5,931
Wetumpka, AL | 6,659
Wewoka, OK | 3,071
Weyers Cave, VA | 2,522
Wharton, TX | 8,964
Wheatland, CA | 3,434
Wheatland, WY | 3,584
Whispering Pines, NC | 3,514
White Hall, IL | 4,048
White Pine, TN | 3,061
White Rock, NM | 5,039
White Sulphur Springs, WV | 2,674
Whitefish, MT | 6,300
Whitehall, MI | 10,568
Whiteman AFB, MO | 5,387
Whiteriver, AZ | 6,188
Whitesboro, TX | 3,959
Whiteville, NC | 7,446
Whitewater, WI | 14,227
Wickenburg, AZ | 3,624
Wiggins, MS | 3,768
Wilburton, OK | 2,979
Willard, MO | 5,531
Willard, OH | 6,309
Willcox, AZ | 3,671
Williams, AZ | 2,639
Williams, CA | 5,181
Williamsburg, IA | 2,914
Williamsburg, KY | 5,969
Williamson, WV—KY | 3,425
Williamston, MI | 6,317
Williamston, NC | 5,361
Williamstown, KY | 4,491
Williamstown, PA | 4,596
Willimantic, CT | 29,669
Williston, FL | 3,244
Williston, ND | 15,127
Willits, CA | 8,053
Willmar, MN | 20,244
Willows, CA | 7,346
Wills Point, TX | 3,320
Wilmington, OH | 12,374
Wilmore, KY | 5,508
Wilson, NC | 49,190
Wilton, IA | 2,791
Winamac, IN | 2,554
Winchester, IN | 4,978
Winchester, KY | 25,831
Winchester, TN | 11,681
Winder, GA | 37,831
Windom, MN | 4,409
Window Rock, AZ—NM | 3,510
Windsor, MO | 2,577
Windsor, NC | 3,566
Windsor, VT—NH | 2,704
Winfield, KS | 12,029
Winneconne, WI | 3,654
Winnemucca, NV | 10,268
Winner, SD | 2,907
Winnfield, LA | 5,376
Winnie, TX | 3,901
Winnsboro, LA | 5,361
Winnsboro, SC | 5,141
Winnsboro, TX | 3,403
Winona, MN | 30,712
Winona, MS | 4,388
Winslow, AZ | 9,765
Winters, CA | 7,082
Winters, TX | 2,516
Winterset, IA | 5,043
Wisconsin Rapids, WI | 29,169
Wolf Point, MT | 3,540
Wonder Lake, IL | 4,533
Woodburn, OR | 32,943
Woodbury, TN | 2,604
Woodcreek, TX | 5,032
Woodlake, CA | 7,465
Woodland Park, CO | 10,528
Woodland, WA | 5,863
Woodruff, SC | 4,298
Woodstock, AL | 3,664
Woodstock, IL | 25,308
Woodstock, VA | 7,017
Woodstown, NJ | 4,195
Woodville, FL | 5,427
Woodville, TX | 4,760
Woodward, OK | 11,344
Wooster, OH | 30,430
Worland, WY | 5,465
World Golf Village, FL | 6,622
Worthington, MN | 12,616
Wright City, MO | 2,938
Wrightstown, WI | 2,524
Wrightsville, GA | 3,452
Wrightwood, CA | 4,096
Wurtsboro, NY | 4,179
Wynne, AR | 7,722
Wytheville, VA | 7,212
Yadkinville, NC | 3,530
Yankton, SD | 14,637
Yazoo City, MS | 15,546
Yellow Springs, OH | 3,589
Yelm, WA | 12,387
Yerington, NV | 2,911
Yoakum, TX | 5,624
York, NE | 7,633
York, SC | 7,931
Yorkville, GA | 3,289
Youngsville, PA | 2,921
Yountville, CA | 2,933
Yreka, CA | 7,598
Yucca Valley, CA | 23,805
Yulee, FL | 7,534
Yuma, CO | 3,524
Zanesville, OH | 42,132
Zapata—Medina, TX | 10,719
Zimmerman, MN | 8,110
Zumbrota, MN | 3,161
Zuni Pueblo, NM | 6,744

C. Geographic Products

TIGER/Line® Shapefiles that contain the boundaries, names, and codes of urbanized areas and urban clusters will be available from the Census Bureau's TIGER/Line® Shapefiles and TIGER/Line® Files Web page at: http://www.census.gov/geo/www/tiger/shp.html. Maps produced by the Census Bureau, showing the boundaries and component geographic entities of urbanized areas and urban clusters will be available in mid-2012. For information updates concerning the availability of maps, data users should monitor the Census Bureau's Urban and Rural Classification and Urban Area Criteria Web page at: http://www.census.gov/geo/www/ua/2010urbanruralclass.html.

Dated: March 16, 2012.
Robert M. Groves,
Director, Bureau of the Census.

[FR Doc. 2012-6903 Filed 3-26-12; 8:45 am]

BILLING CODE 3510-07-P